DEPARTMENT OF COMMERCE

Bureau of Industry and Security

15 CFR Parts 738, 740, 742, 743, 748, 750, 758, 772, and 774

[Docket No. 250910-0151]

RIN 0694-AJ46

Revision of Firearms License Requirements

AGENCY: Bureau of Industry and Security, Department of Commerce.

ACTION: Final rule.

SUMMARY: On April 30, 2024, the Bureau of Industry and Security (BIS) published an interim final rule (Firearms IFR) that imposed new export license requirements for firearms and related ammunition and components. American firearms manufacturers estimated that these regulatory restrictions would cost them hundreds of millions of dollars per year in lost sales. BIS, informed by public comments on the Firearms IFR, has determined that the Firearms IFR should be rescinded in its entirety—with the only exception being to maintain new Export Control Classification Numbers (ECCNs). This final rule also amends the EAR by removing the Congressional notification requirement for certain semi-automatic firearms license applications. By restoring export controls on firearms to the state they were in at the end of the first Trump Administration, BIS is advancing the Administration's commitment to reducing regulatory burdens on industry and law-abiding firearms owners.

DATES: This rule is effective September 30, 2025.

FOR FURTHER INFORMATION CONTACT: Benjamin Barron, Supervisory Export Policy Analyst, Bureau of Industry and Security, Department of Commerce, Phone: 202-482-4252, and Ronald Rolfe, Supervisory Export Policy Analyst, Bureau of Industry and Security, Department of Commerce, Phone: 202-482-4563. Both can be reached at Firearms@bis.doc.gov.

SUPPLEMENTARY INFORMATION: This final rule revises the EAR (15 CFR parts 730-774) in response to comments BIS received on the interim final rule, “Revision of Firearms License Requirements” that BIS published on April 30, 2024 (89 FR 34680) (Firearms IFR), pursuant to which BIS made a series of amendments to the EAR effective May 30, 2024. The Firearms IFR revised the license requirements and review policies, as well as other aspects of the control structure (e.g., license exception eligibility and export clearance requirements) for firearms, including shotguns, ammunition, parts, accessories (e.g., optical devices), and related technology and software (“0x5zz items”).

This final rule is organized into four sections: I—Background, II—Comments, III—Description of Regulatory Changes, and IV—Other EAR Revisions. Section I discusses the background of this final rule which includes the history of EAR firearms controls and the policy changes that shaped this final rule. In section II, BIS summarizes and responds to the comments received in response to the Firearms IFR organized into 28 topics that in turn are divided in two parts. First, BIS describes the comments of general applicability under section II.A. Then, under section II.B, BIS describes the comments received on specific changes to the regulatory text included in the Firearms IFR. In section III, BIS describes the regulatory changes made pursuant to the Firearms IFR, and how each of those changes is revised. The revisions that this final rule makes to the EAR ensure that appropriate controls are in place for 0x5zz items, while at the same time reflecting consideration of exporters' concerns regarding burdens as detailed in public comments. Finally, section IV discusses other revisions to the EAR by this final rule that were not part of the Firearms IFR. As a general matter, the regulatory actions undertaken in this final rule are consistent with BIS's ongoing commitment to reducing the regulatory burden on the American people and industry as well as adopting commonsense regulations.

I. Background

The changes described in this final rule that pertain to firearms and related items are based on a comprehensive review of the EAR's provisions that affect the licensing of 0x5zz items and of public comments received on the Firearms IFR. BIS will continue to exercise appropriate regulatory oversight over the export, reexports, and transfers (in-country) of the 0x5zz items at issue but will reduce the procedural burdens and costs of export compliance on the U.S. firearms industry and American people. Notably, this final rule is eliminating controls that are more restrictive or have otherwise imposed novel burdens on exporters, reexporters, or transferors that do not apply to “600 series” military items. This final rule also takes into account that 0x5zz items are typically sold through commercial channels for civil applications, as well as to certain government end users (e.g., law enforcement). By making these changes, the final rule will allow BIS, and its interagency partners, to make better use of export control resources in assessing threats and risks to U.S. national security and foreign policy interests.

BIS has determined that certain restrictions and requirements added to the EAR pursuant to the Firearms IFR imposed unnecessary regulatory burdens on exporters, reexporters, and transferors of 0x5zz items and end users of such items outside the United States and alleviates those burdens in this final rule. BIS retains the amendments in the Firearms IFR that added four new ECCNs (0A506, 0A507, 0A508, and 0A509) to the Commerce Control List (CCL) (supplement no. 1 to part 774 of the EAR), along with changes to § 758.1(g)(4) requiring ECCN item paragraph classification or other control descriptors in the Electronic Export Information (EEI) filing in the Automated Export System (AES). These provisions enable BIS to fulfill its conventional arms reporting requirements without requiring a separate submission from exporters and allow BIS's Office of Export Enforcement (OEE) to utilize its resources more efficiently to prioritize and address diversion risks of 0x5zz items. BIS also retains the paragraph restructuring, clarifying edits, and conforming changes related to the new ECCNs added by the Firearms IFR, as they provide improved comprehension of the EAR. This final rule removes all other changes to the EAR made pursuant to the Firearms IFR.

History of EAR Firearms Controls

Items classified under 0x5zz ECCNs have been controlled by the Department of Commerce (Commerce) under the EAR since March 9, 2020, when jurisdiction over certain end-item firearms and related items was transferred by removing them from the Department of State's (State) United States Munitions List (USML) (see 22 CFR part 121) under the International Traffic in Arms Regulations (ITAR) to Commerce's CCL under the EAR. BIS continues to exercise Commerce's jurisdiction over long barrel shotguns (greater than 18 inches), as well as certain related items. See the January 23, 2020, BIS final rule, “Control of Firearms, Guns, Ammunition and Related Articles the President Determines No Longer Warrant Control Under the United States Munitions List (USML)” (85 FR 4136) (January 2020 EAR final rule; effective date: March 9, 2020) and the January 20, 2020, State final rule, “International Traffic in Arms Regulations: U.S. Munitions List Categories I, II, and III” (85 FR 3819; effective date: March 9, 2020). During the past five years, BIS has required that an authorization be obtained for most exports and reexports of 0x5zz items to most destinations, including Canada. The 0x5zz items are currently controlled under the following ECCNs: 0A501, 0A502, 0A504, 0A505, 0A506, 0A507, 0A508, 0A509, 0B501, 0B505, 0D501, 0D505, 0E501, 0E504, and 0E505. In addition to the worldwide license requirement, which has generally been in effect since March 9, 2020, BIS maintains other requirements with respect to 0x5zz items. These include certain export clearance requirements that provide information regarding the specific items being exported or reexported; limitations on the availability of license exceptions; and certain recordkeeping requirements. As described in the January 2020 EAR final rule, BIS added to the EAR provisions to ensure that U.S. export controls under the EAR account for the firearms-related import controls of other countries; specifically, the use of BIS licenses was predicated on having an Import Certificate or other permit (if required) by the importing country. These requirements were imposed to ensure, to the extent feasible, that the EAR control structure for 0x5zz items would protect U.S. national security and foreign policy interests, which include countering diversion and misuse of 0x5zz items and advancing human rights.

Policy Changes

As part of the license review policy adopted pursuant to the Firearms IFR, BIS implemented more restrictive license application and review requirements, including imposing unique support documentation or other limitations or requirements on license applications for 0x5zz items. These license application and review requirements were more restrictive than those applied to other items transferred from the USML to the CCL as part of the Export Control Reform initiative (i.e., the “600 series” military items and 9x515 spacecraft items). This final rule revises the EAR to return the license review policy and other license support documentation requirements for 0x5zz items to those that were in effect prior to May 30, 2024, the effective date of the Firearms IFR. BIS determined that these previous license review policies and support documentation requirements in effect prior to May 30, 2024, gave BIS and the other license review agencies sufficient information to review license applications and discretion to deny license applications as warranted to protect U.S. national security and foreign policy interests. BIS emphasizes that with the rescission of the Firearms IFR, BIS or the other license review agencies may still request additional information or support documentation from a license applicant.

BIS's policy is to be prudent and fiscally responsible in the expenditure of public funds, and to alleviate unnecessary regulatory and financial burdens placed on the American people. BIS has determined that the changes described in this final rule will continue to advance U.S. national security and foreign policy interests, while reducing the economic impact the Firearms IFR had on the U.S. firearms industry, the American public, and the broader U.S. economy. As with all EAR controls, these changes are designed to be as targeted as possible to accomplish BIS's mission to protect the national security and foreign policy interests of the United States.

While this final rule is reversing the majority of the changes to the EAR made pursuant to the Firearms IFR, BIS maintains license requirements and policies for 0x5zz items that allow BIS and its interagency partners sufficient latitude to review and properly adjudicate BIS licenses involving destinations, end uses, or end users of concern and to deny license applications that would involve unlawful end uses or otherwise be contrary to U.S. national security and foreign policy interests. The control structure for the 0x5zz items is also further strengthened by the part 744 end use and end user controls, as well as the embargoes and other special controls under part 746. These aspects of the control structure for 0x5zz items are not changed with this final rule. This final rule only removes requirements from the Firearms IFR that BIS has assessed are unnecessary to achieve its control objectives. The final rule is intended to be less burdensome on the firearm industry, while also treating firearms commensurate with other more sensitive items (e.g., “600 series” items that are subject to the EAR).

II. Comments

In response to the Firearms IFR, BIS received and posted nearly 13,000 comments, including 399 unique comments, of which 375 were responsive. There were an additional 11 “bulk” comments (consolidated and primarily duplicative comments) that were responsive. BIS appreciates the constructive comments and recommendations to enhance and/or streamline the EAR's controls and related policies and procedures as amended by the Firearms IFR, as well as those comments that raised concerns about the regulatory changes.

A. Comments of General Applicability

Favorable Opinion of the Firearms IFR

Comment 1: Numerous commenters expressed support for the Firearms IFR as a common-sense regulatory measure to further national security and foreign policy interests. In particular, these commenters viewed export restrictions imposed pursuant to the Firearms IFR as tools to protect the world from gun violence, including criminal and terrorist activity and the abuse of human rights.

BIS Response: BIS appreciates these commenters' perspectives. In this final rule, BIS is making changes that reflect its commitment to exercising appropriate regulatory oversight over the exports, reexports, and transfers (in-country) of the 0x5zz items at issue in a manner that addresses the concerns raised by these commenters. However, this final rule's revisions also reduce the procedural burdens and costs of export compliance on the U.S. firearms industry and the American people. BIS will continue to maintain appropriate firearms controls and related policies that support U.S. national security and foreign policy interests.

Unfavorable Opinion of the Firearms IFR

Comment 2: Numerous commenters criticized the changes made to the EAR by the Firearms IFR. Some described the Firearms IFR as unnecessarily complex and difficult to understand. These commenters asserted that the changes included in the Firearms IFR are a way of exercising greater control, policing behavior, and collecting data on lawful gun owners. Some commenters noted that the Firearms IFR suggests that the government mistrusts American citizens and businesses, characterizing the IFR as an example of government overreach into private affairs.

BIS Response: The Firearms IFR did not restrict the sale or use of firearms domestically. BIS does not regulate the domestic sale or use of firearms or related items; nor do the export controls on 0x5zz items under the EAR have any bearing on, or otherwise restrict, domestic gun rights or gun ownership. BIS has reviewed the complexity of the requirements in the Firearms IFR and made changes to reduce or, as appropriate, entirely eliminate relevant regulatory burdens.

Comment 3: Numerous commenters asserted that the Firearms IFR violates the Constitution, specifically the Second Amendment, by potentially infringing upon their rights to bear arms. In connection with this assertion, they cited their belief that increased scrutiny and potentially longer application processing times could deter individuals from exercising these constitutional rights.

BIS Response: Consistent with BIS's jurisdiction, the Firearms IFR addressed exports of firearms from the United States as well as reexports of firearms between foreign countries and transfers of firearms within foreign countries. It had no effect on the rights of, or requirements applicable to, owners of firearms within the United States.

Comment 4: Some commenters asserted that the U.S. Government, through the Firearms IFR, should not make it difficult for citizens of other nations to purchase American-made firearms to protect themselves against crime and violence. Those commenters stated that the Firearms IFR would stop those individuals from being able to purchase firearms abroad used for these purposes.

BIS Response: BIS agrees that the Firearms IFR was too restrictive. Under this rule, BIS will have greater ability to license the export, reexport, and transfer (in-country) of firearms for foreign persons who seek to purchase firearms for legitimate purposes.

Promoting/Protecting Human Rights

Comment 5: Many commenters cited human rights considerations as being an integral part of the export licensing process. These commenters urged the U.S. Government to do everything in its power to promote human rights by strengthening its export controls to prevent U.S.-made firearms from ending up in the hands of individuals with the potential to commit human rights violations.

BIS Response: Prior to the Firearms IFR, BIS's firearms controls under the EAR reflected consideration of human rights, as do controls and related review policies under the EAR that apply to most categories of items on the CCL. For example, human rights are considered through the Regional Stability (RS) control policy. As noted elsewhere in this final rule, 0x5zz items are subject to RS reasons for control, with limited exceptions (e.g., 0A501.y items), thereby ensuring that it is possible to account for human rights considerations in reviewing applications for 0x5zz items under the EAR without additional controls.

Diversion and Misuse

Comment 6: Commenters supported the Firearms IFR's focus on diversion, stating that violence committed with these firearms in foreign countries adversely affects U.S. foreign policy; additionally, these commenters noted that the failure to prevent diversion reduces respect for the United States and its firearms industry. Other commenters recommended that BIS publish firearms export and licensing approval data on an annual basis, including the number of licenses and firearm types, dollar value and license duration for each country, and whether the end users are governments, private companies, or individuals.

BIS Response: BIS's OEE regularly reviews various sources of information related to the export, reexport, and transfer (in-country) of 0x5zz items subject to the EAR, including searching for any indication an EAR-controlled item may have been diverted or used for a prohibited end use. Additionally, the adoption of new ECCNs permits generation of foreign trade statistics reports available from the U.S. Census Bureau, which include export data on ECCNs, as well as Harmonized Tariff Schedule (HTS) codes, and information available from various private sector trade data providers. However, pursuant to ECRA, BIS generally does not publish data that is specific to particular licenses.

Comment 7: Many commenters supported the new ECCNs included in the Firearms IFR addressing the diversion risk of firearms. They noted that the ECCNs would allow BIS to produce appropriate analyses to inform current and future policies and procedures and allow for more thorough internal analyses of the items controlled under them.

BIS Response: BIS agrees that the new ECCNs are effective in enabling OEE to more effectively prioritize enforcement resources in addressing diversion risks with respect to 0x5zz items. In addition, removing the new ECCNs could impose additional compliance costs on the exporting community, which has already expended the resources to adjust to the new ECCNs. For these reasons, BIS is retaining the new ECCNs.

Foreign Availability

Comment 8: Some commenters expressed the position that restricting U.S. exports of firearms would have little or no impact on crime in other countries due to widespread foreign availability of such items from other foreign countries. Some commenters asserted that China, Russia, and other foreign countries would benefit financially and politically as a result of their backfilling foreign markets as U.S. firearms exporters exit those markets or become less competitive due to the restrictions imposed pursuant to the Firearms IFR.

BIS Response: BIS acknowledges that many firearms are available for purchase globally. To address this concern, as well as the impact on crime, BIS and other U.S. federal regulatory departments and agencies work with other countries (e.g., through the multilateral export control regimes such as the Wassenaar Arrangement, or through other international arrangements, such as the Inter-American Convention Against the Illicit Manufacturing of and Trafficking in Firearms, Ammunition, Explosives, and Other Related Materials) to ensure that appropriate controls are in place for 0x5zz items.

Comment 9: Some commenters suggested that the Firearms IFR conflicted with Commerce's mission of facilitating commerce for U.S. companies.

BIS Response: BIS agrees that the Firearms IFR imposed too great a burden on U.S. exporters, relative to the national security and foreign policy benefits. For this reason, BIS is rescinding the Firearms IFR apart from the addition of the four new ECCNs that apply to 0x5zz items and clarifications and conforming changes.

License Requirements and Review Policy

Comment 10: Commenters expressed concern that the Firearms IFR placed new and stringent restrictions on 0x5zz items that are not applied to any other items controlled under the EAR, including more sensitive items such as missile technology, chemical and biological weapons, and “600 series” military items.

BIS Response: BIS agrees that some of the new restrictions imposed by the Firearms IFR were overly stringent compared to those applicable to more sensitive items. After reviewing comments and considering the EAR's review policies and license application requirements that apply to a range of items, including the “600 series” military items, BIS has decided to revert the EAR license application requirements and related review policies for 0x5zz items to those in effect prior to May 30, 2024, the effective date of the Firearms IFR.

Comment 11: One commenter stated that BIS had underestimated the increase in firearms license applications due to the changes implemented in the Firearms IFR. The commenter stated that without added licensing staff and resources, this increased volume of license applications might add three to four months to the license application review process.

BIS Response: BIS agrees that the Firearms IFR resulted in a diversion of resources from BIS's core mission. BIS is rescinding the Firearms IFR (apart from the addition of the four ECCNs and clarifications and conforming changes) so that it can focus its resources on license applications that involve items of greater significance for U.S. national security and foreign policy.

U.S. Economy

Comment 12: Many commenters asserted that the Firearms IFR would harm American businesses and the economy. Many commenters believed that the Firearms IFR would result in higher prices for 0x5zz items. One commenter estimated that these pricing increases would cause lost jobs in the manufacturing, sale, and distribution of 0x5zz items.

BIS Response: BIS agrees that the Firearms IFR negatively affected the U.S. firearms industry and therefore is rescinding it apart from the addition of the four ECCNs and clarifications and conforming changes.

U.S. Firearms Industry

Comment 13: Many commenters asserted that the Firearms IFR placed a financial burden on American firearms and ammunition manufacturers by making them “pay for crimes” committed by others in foreign countries. These commenters stated that the Firearms IFR is not about stopping crime and viewed it instead as a means to harm American manufacturers.

BIS Response: BIS agrees that the Firearms IFR was economically counterproductive and therefore is rescinding it (apart from the addition of the four ECCNs and clarifications and conforming changes).

Comment 14: Many commenters were concerned that the Firearms IFR would have a negative impact on small businesses associated with firearms. The commenters stated that many small businesses may have difficulty understanding or complying with complex regulations, including those in the Firearms IFR, and that their businesses' operations could experience major disruptions while undertaking efforts to ensure compliance.

BIS Response: BIS acknowledges that certain elements of the Firearms IFR imposed burdens that might particularly impact small businesses. The deregulatory actions in this final rule will relieve the burdens on all exporters, reexporters, and transferors, including small businesses.

B. Comments Specific to the Regulatory Text

New ECCNs for Semi-Automatic Firearms and Certain Related Parts, Components, Attachments, and Accessories

Comment 15: Some commenters remarked that adding a second unique number to identify 0x5zz items under the new ECCNs is redundant, while some commenters stated that the serial number is sufficient for firearms identification. Those commenters criticized the adoption of new ECCNs as a new bureaucratic requirement placed on American firearms companies to track U.S.-made firearms abroad.

BIS Response: BIS does not agree with these commenters. These new ECCNs provide BIS with increased visibility into 0x5zz exports to support OEE's efforts in combating diversion risks, which aids BIS in protecting U.S. national security and foreign policy interests. With respect to the compliance burden, BIS believes that the one-time reclassification expenses have already been absorbed by exporters because the Firearms IFR has been in place for more than a year. Removing the new ECCNs now would risk imposing additional compliance costs on the exporting community. For these reasons, BIS is retaining the new ECCNs.

Comment 16: One commenter criticized the creation of the four new ECCNs, noting that BIS could have utilized the specific HTS codes for semi-automatic firearms.

BIS Response: BIS recognizes that an alternative approach would have been to rely on the HTS codes to distinguish between semi-automatic and non-automatic firearms. However, based on its experience in conducting national security investigations under Section 232 of the Trade Expansion Act of 1962 and in imposing export controls on Russia and Belarus, BIS is aware that some exporters struggle with identifying the correct HTS classifications and that many exporters prefer using ECCNs. Additionally, HTS codes are often broader than ECCNs and may include items that BIS does not control, leading to confusion and errors when analyzing export data.

ECCN 0A506

Comment 17: One commenter criticized a list of features used as criteria for ECCN 0A506, including folding or telescoping stock, pistol grip, ability to accept a bayonet, flash suppressor, and bipods. The commenter stated that the preamble of the Firearms IFR mentioned the Wassenaar Arrangement Munitions List (WAML) was used to identify these features, but that the controls on semi-automatic rifles under WAML do not include any specific features as part of the control text; nor did the USML (prior to the transfer to the CCL pursuant to the January 2020 EAR rule). The commenter stated that the list of control criteria in this ECCN appears intended to mirror similar features listed in the federal “assault weapon” ban that was in place from 1994 to 2004. In light of the history under the WAML and the USML, the commenter viewed the list of features as “largely cosmetic,” without providing any benefit in the licensing review process.

BIS Response: BIS is not retaining the paragraphs containing the features used as criteria to describe items controlled under ECCN 0A506 because those item-level paragraphs are not a required element in EEI filings. BIS is retaining revised .a and .b item paragraphs which will describe the type of ammunition (centerfire or rimfire) used by 0A506 items to allow exporters to continue to complete their conventional arms reporting requirements through EEI filing in AES without the need to submit additional documents to BIS as further described in section III.G of this final rule.

Comment 18: One commenter strongly urged BIS to remove the Technical Note 2 to 0A506, which controls semi-automatic rifles, and place it under ECCN 0A507, which controls semi-automatic pistols. Technical Note 2 describes “pistols built with, e.g., AR- or AK-style receivers (frames).” The commenter stated that ATF definitions of “Pistol” and “Rifle,” on which industry relies, conflict with Technical Note 2. A pistol manufactured from an AR- or AK- style frame is still a pistol according to ATF regulations. The commenter expressed concern that Technical Note 2 in ECCN 0A506 would lead to potential confusion and recordkeeping issues for exporters that are accustomed to ATF definitions.

BIS Response: BIS does not agree. Technical Note 2 exists to inform exporters that these items are classified under ECCN 0A506, rather than another ECCN. While BIS did attempt to harmonize the ECCNs with ATF technical parameters where possible, certain variations remain between the way the two agencies describe items, given the fact that the agencies regulate the items for different purposes. However, to aid exporters in identifying their items, BIS is adding Note 2 to ECCN 0A507 that states firearms, including pistols, built with, e.g. AR- or AK-style receivers (frames) are controlled under ECCN 0A506.

ECCN 0A507

Comment 19: In the Firearms IFR, ECCN 0A507 included a Technical Note that referenced revolvers chambered for the .50 BMG cartridge. One commenter suggested removing this Technical Note and adding a new subparagraph for Revolvers, .50 BMG cartridge. The commenter noted that ATF regulations and the firearm industry at large classify revolvers and pistols as separate types of firearms. The commenter suggested that the Technical Note that implies revolvers are a type of pistol could cause confusion.

BIS Response: BIS does not agree. While BIS understands that other agencies and industry may classify revolvers differently from pistols, the purpose of the Technical Note is to inform exporters that specific revolvers with these technical parameters will be classified under this ECCN.

ECCN 0A508

Comment 20: ECCN 0A508 included a list of features to identify semi-automatic shotguns. One commenter stated that these features are not appropriate for establishing controls over semi-automatic shotguns. The commenter recommending that barrel length be utilized to determine whether a shotgun is used for hunting or sporting purposes and urged BIS to revise ECCN 0A508 so that separate controls would apply to semi-automatic shotguns used for sporting purposes. In addition, the commenter requested that BIS revert the CC2 licensing policy for sporting shotguns so that no license would be required for exports to A:1 countries, regardless of whether the shotgun is semi-automatic.

BIS Response: Similar to the changes made to ECCN 0A506 (discussed in response to Comment 18), the item feature paragraphs are removed and paragraphs .a and .b are retained, with revisions, to continue to allow exporters to utilize the alternative conventional arms reporting method. Additionally, BIS is eliminating the Firearms IFR crime control policy for 0x5zz items as described in this final rule.

ECCN 0A509

Comment 21: One commenter asked BIS to clarify whether accessories that assist shooters without making a weapon fully automatic, such as bump stocks, would be controlled under ECCN 0A509. The commenter asked BIS to revise the text to be more specific regarding the type of commodity being controlled or add a Technical Note.

BIS Response: ECCN 0A509.a mirrors the text in ECCN 0A501.y, which has been used with minimal changes since certain 0x5zz items were transferred to BIS's jurisdiction effective March 2020 with no apparent classification difficulties. There is a note to 0A509.b and .c. BIS welcomes the submission of commodity classification requests should exporters have classification questions.

Changes to Existing 0x5zz ECCNs

Comment 22: A few commenters raised concerns that the new license requirements in the Firearms IFR will be particularly damaging to U.S. manufacturers of optical sighting devices, who face stiff competition from a variety of foreign manufacturers, particularly those in China. These commenters noted that with the new global license requirement for these low-technology items, U.S. scope manufacturers would not be able to meet market demands in a timely manner, thereby creating opportunities for foreign manufacturers (particularly China) to fill the void. The commenters stated this creates unfair competition and tilts the playing field toward foreign-manufactured optics.

BIS Response: In response to these concerns, BIS has revised the license requirement for optical sighting devices for firearms under ECCN 0A504 to revert to the pre-Firearms IFR license requirement using the CC1 reason for control.

License Exception Shipments of Limited Value (LVS)

Comment 23: One commenter urged BIS to reconsider removing eligibility for the license exception for shipments of limited value (LVS) for items controlled under the new ECCNs. The commenter's business caters to individual participants in competition shooting, and the commenter anticipated that individuals needing a small part or accessory to maintain competition firearms would not go through the process of obtaining a license.

BIS Response: Most “parts,” “components,” “accessories,” and “attachments” “specially designed” for ECCN 0A506, 0A507, and 0A508 items are still eligible for LVS as they remain controlled under ECCNs 0A501 and 0A502 which have LVS eligibility for certain items. ECCN 0A509 is also revised to allow LVS for certain “parts,” “components,” “accessories,” and “attachments.”

License Exception Baggage (BAG)

Comment 24: Some commenters supported the changes made to License Exception BAG, including the elimination of BAG to CARICOM countries, by the Firearms IFR as an effective means of reducing firearms trafficking and diversion.

Response: Consistent with BIS's effort to eliminate unnecessary regulatory burdens, the exclusion of CARICOM destinations from BAG eligibility is removed as described in sections III.B of this preamble. BIS does not believe there should be a special firearms-related export control regime that applies uniquely to CARICOM countries. Rather, the same regime that applies to other countries should apply to CARICOM as well.

Comment 25: Some commenters stated that the Firearms IFR would impact hunters by restricting the number of firearms and amount of ammunition those hunters can bring with them on travel abroad to participate in hunting expeditions. Additionally, one commenter asserted that BIS significantly underestimated the increase in annual license applications.

BIS Response: In the Firearms IFR BIS clarified its intent that license exception BAG under § 740.14(e) is limited to a total of three firearms. This has long been BIS's interpretation of paragraph (e). This clarifying change is retained to aid exporters in identifying the total number of firearms permitted under this license exception. Additionally, BIS notes that the Firearms IFR did not change the limit on ammunition that a traveler may export in a single trip. Finally, BIS believes that the commenter's license application estimate is an overestimate because these revisions clarified, rather than modified, license exception BAG consistent with BIS's longstanding interpretation of paragraph (e).

Comment 26: With respect to the question BIS posed about imposing a time limit on the use of license exception BAG, responses were mixed. Some commenters supported a time limit and further recommended a tracking mechanism to confirm that firearms exported under license exception BAG are returned, and others objected to the additional burden on individuals traveling abroad with firearms for personal use, including hunters and sport shooters.

BIS Response: BIS did not impose a time limit on BAG in the Firearms IFR. After consideration of these comments, BIS assesses that the potential benefits of imposing a specified timeline do not justify changes to the BAG license exception.

License Review Policy for Crime Control (CC)

Comment 27: Many commenters supported the changes to the crime controls in the Firearms IFR and welcomed the application of crime control measures to all firearms. They remarked that the changes provide needed additional scrutiny during the license review process when the importing country has a record of human rights abuses or civil disorder.

BIS Response: Prior to the Firearms IFR, BIS did not apply a CC reason for control on certain 0x5zz items that were moved from the USML to the CCL because these items were already subject to broad NS1, RS1, and FC controls. In the Firearms IFR, BIS added a worldwide, except for Canada, CC reason for control. BIS has determined that the CC controls for 0x5zz items should be revised to reduce unnecessary burdens on exporters.

Comment 28: One commenter asserted that the new CC policy is a severe overreaching new policy, which is not supported by U.S. Government reports, data, or historical exports. The commenter remarked that it is redundant because human rights concerns have been part of the BIS license review process since the 2020 transition of firearms and related items from the ITAR to the EAR. Additionally, the commenter asserted that the policy forces our most trusted allied countries to undergo licensing that was not previously required.

BIS Response: As discussed in BIS's response to comments 5 and 25 regarding the CC policy of the Firearms IFR and as human rights concerns, BIS agrees that the Firearms IFR CC review policy was too restrictive as well as burdensome for trusted allies and partner nations and is consequently reverting to the pre-Firearms IFR CC policy. As a result of these changes, the CC licensing policy for 0x5zz items (see § 742.7(b)) is revised in this final rule.

License Review Policy for Government and Non-Government End Users

Comment 29: A number of commenters supported a presumption of denial license review policy for exports to non-government end users in certain countries. Some of these commenters recommended a worldwide presumption of denial review policy for exports to non-government end users. Other commenters objected to the new license review policy for non-government end users on the grounds that BIS did not adequately address or provide sufficient evidence regarding the rate of legally exported firearms to non-government end users being traced to crimes.

BIS Response: The license review policy in this final rule no longer differentiates between government and non-government end users. BIS undertakes a thorough license review and imposes appropriate conditions on licenses regardless of whether the end user is government or non-government. BIS further assesses that this robust license review process is sufficient to protect U.S. national security and foreign policy interests without applying a presumption of denial review policy to certain countries.

Comment 30: A number of commenters expressed concern that the Firearms IFR did not adequately address the transfer of firearms to government end users, asserting that the rule did not mention oversight mechanisms to protect against the transfer of firearms to military and police end users implicated in human rights abuses, collusion with criminal groups, or other violent or destabilizing activity. One commenter also stated that there is a higher risk of diversion from exports to certain foreign governments than from exports to non-government individuals or entities, such as private dealers.

BIS Response: This final rule reverts to the prior license review policy, which does not distinguish between government and non-government end users for 0x5zz ECCNs. The existing license review policies for 0x5zz ECCNs provide BIS and the other license review agencies with sufficient oversight, as well as with discretion to deny licenses for military end users, police end users, and any other party to the transaction implicated in human rights abuses, collusion with criminal groups, or other violent or destabilizing activity.

Reducing the General License Validity Period

Comment 31: Many commenters supported the reduction in the general license validity period from four years to one year. They noted that longer licenses limit the U.S. Government's insight into the changing circumstances or consequences of prior exports, and that the shorter validity period would allow for better assessment of the risks associated with particular exports, as well as considerations regarding the rapid development of firearms technology. However, some commenters opposed reducing the general license validity period to one year due to practical and logistical difficulties including fulfilling import license application requirements, gathering and executing support documents, accounting for BIS application processing times, and satisfying manufacturing allocation requirements.

BIS Response: BIS has determined to revert to the four-year general license validity period for 0x5zz items. Doing so is appropriate because BIS has determined that controls for 0x5zz items should not be more restrictive than those for more sensitive items that are subject to the EAR, such as the “600 series” items, that are subject to a four-year validity period. BIS retains the ability to issue a license for less than four years, should it be warranted, and to revoke existing licenses should changes in circumstances arise.

Comment 32: Some commenters were concerned that an increase in licensing would occur due to the shorter license validity period and create administrative burdens for BIS as well as for exporters. These commenters remarked that BIS severely understated the estimated increase in license submissions based on these new regulatory requirements.

BIS Response: BIS agrees with the commenters' concerns regarding the challenges for industry and the administrative burden for the government with shorter licensing periods and is reverting to the pre-Firearms IFR four-year general license validity period, which should lessen the licensing burden.

Support Document Requirements for Firearms License Application

Comment 33: A number of commenters supported the changes the Firearms IFR made to the support documents required when submitting a license application for 0x5zz items. They noted that the changes would give BIS tools to better assess the intended end user of those items. However, some commenters said they had noticed inconsistencies in BIS's requests for additional documentation. One commenter was concerned that the several amendments to existing licensing procedures, particularly enhanced documentation requirements, would unduly burden law-abiding citizens. Commenters concerned about the documentation requirements urged BIS to avoid imposing bureaucratic hurdles that would deter compliance or strain government resources.

BIS Response: This final rule does not retain the support document requirements from the Firearms IFR. However, applicants should understand that BIS reviews each license application on its own merits and may require different documentation depending on the unique circumstances of each transaction.

Requiring a Purchase Order for Certain Firearms License Applications

Comment 34: A commenter noted the Firearms IFR preamble requires the inclusion of purchase orders for certain 0x5zz license applications, while purchase orders are not required for any other CCL controlled items, including “600 series” military items. The commenter suggested that the purchase order requirement for 0x5zz license applications is punitive, as it singles out an industry for additional regulatory burdens, and that it would impede the ability of U.S. exporters to export and deliver these items in a timely manner. The commenter stated that the new requirement would make it extremely challenging for U.S. exporters to compete for foreign government contracts or commercial business, and resulting delays would damage their relationships with partners abroad.

BIS Response: This final rule removes the purchase order requirement because BIS assesses that treating 0x5zz items no more restrictively than “600 series” and 9x515 items is sufficient to protect national security and foreign policy interests. BIS and the other license review agencies may request that an applicant provide purchase orders on a case-by-case basis.

Requiring an Import Certificate as Part of the License Application

Comment 35: One commenter was concerned that the requirement of an import certificate could effectively ban shipments to private importers in certain countries where it is expensive for an importer to apply for an import certificate. This commenter stated that rather than bear those expenses, an importer would simply purchase from a business or individual in another country that does not require an import certificate.

BIS Response: The U.S. Government does not support the export or reexport of 0x5zz items that are not eligible to be imported into a foreign country. Not all countries require an import certificate or equivalent document for 0x5zz items, but for countries or destinations that do, regardless of the cost, longstanding BIS licensing practices under the EAR for 0x5zz items require that the country with export jurisdiction permit the export, and the country of import must permit the entry of the item. BIS emphasizes that it is in the interest of exporters of any item, prior to making an export, to determine whether the item may be imported into the respective country.

Comment 36: One commenter requested that BIS clarify the Import Authorization (IA) requirement for countries that do not require them. The commenter also asserted that the request for proof when no IA is required is outside of the scope of the authority of the EAR because the EAR includes no requirement for a “no-need document.” The commenter expressed concern that it could be extremely difficult to obtain the required documents from some foreign governments where no IA is required.

BIS Response: Section 748.6(e) states, when necessary, BIS may require the submission of information in addition to information that is expressly specified in the EAR. However, this final rule reverts to the prior requirement to submit an import certificate or other equivalent document only where the destination is an Organization of American States (OAS) member state, consistent with the OAS Firearms Convention. Since exporters, reexporters, and transferors will not be required to submit an import certificate to support applications to other destinations, no clarification is needed.

Comment 37: One commenter remarked that the required information under an OAS country import certificate was agreed to among the parties to the Inter-American Convention Against The Illicit Manufacturing Of And Trafficking In Firearms, Ammunition, Explosives, And Other Related Materials, which entered into force July 1, 1998. Because non-OAS countries did not develop their import certificates in accordance with this treaty, documents issued by non-OAS countries may not include all the information listed in § 748.12(c). The commenter requested that BIS revise the regulatory text of § 748.12 to allow for import certificates from non-OAS countries that do not include all of the listed information per § 748.12(c).

BIS Response: BIS agrees that a clarifying edit is warranted. This final rule revises § 748.12 to state that the document must contain, as applicable, the information in paragraph (c) to allow for import certificates that might not contain all of the requested information in this paragraph.

Comment 38: One commenter noted, with respect to § 748.12(b), that the issuance of hard copy original documents or certified copies have significantly decreased with the advent of electronic systems, and most countries now use online systems similar to BIS's SNAP-R electronic licensing system. No “original” document is issued, and governments typically do not provide “certified copies.” The commenter requested BIS revise the regulatory text under § 748.12(b) regarding “original or certified copy” to include “or electronic equivalent document officially issued by the foreign government import authority” or amendments to that effect.

BIS Response: BIS agrees that a clarification should be made to § 748.12 to allow for the use of an electronic equivalent document officially issued by the foreign government import authority and makes a revision to the introductory text of § 748.12 in this final rule.

Comment 39: A commenter stated, referencing § 748.12(d)(1) as revised by the Firearms IFR, that the import certificate descriptions are often expressed using HTS numbers and related descriptions. Such certificates may not exactly match the commodity description on the license application, but they act as authorization for import of those commodities by the foreign government.

BIS Response: BIS appreciates this information. BIS has determined to no longer require the submission of import certificates for all transactions of 0x5zz items and believes this will resolve this issue in most cases.

Requiring a Passport or National Identity Card for License Applications

Comment 40: Commenters supported the requirement for certain exporters to provide a passport or national identity card. One commenter stated that it was pleased that BIS imposed this requirement solely on license applications for exports directly to individuals in non-A:1 countries. That commenter said this is a reasonable request because it is important for BIS to have clear information on the identity of the individual end user.

BIS Response: This final rule does not retain the passport or national identity card requirement for license applications. BIS assesses that it can safeguard U.S. national security and foreign policy interests without this requirement and therefore has chosen to remove this burden on exporters.

List of 36 High Risk Destinations

Comment 41: Some commenters suggested that the list of 36 high-risk destinations should be expanded to include other countries where U.S. companies export large quantities of firearms used in devastating violence.

BIS Response: The list of 36 high-risk destinations is being removed from the EAR by this rule. BIS believes this change is appropriate because it is unnecessary to apply a presumption of denial to transactions involving non-government end users in a limited number of countries. The National Security (NS) and RS review policies provide a sufficient opportunity to protect U.S. national security and foreign policy interests.

Comment 42: A number of commenters asserted that a “presumption of denial” for sales to the 36 high-risk destination countries would result in an estimated reduction in approximately 7% of sales, which accounts for around $40 million of the current $600 million in U.S. firearms exports per year, as non-government end users in these 36 countries would source firearms from exporters in non-U.S. countries.

BIS Response: BIS does not have specific figures to support the likelihood of how the presumption of denial would harm businesses. However, BIS is removing the presumption of denial policy for the 36 high-risk destinations identified in the Firearms IFR (along with the list of these destinations); BIS has determined that its existing review policies will sufficiently safeguard U.S. national security and foreign policy interests.

CARICOM License Restrictions

Comment 43: One commenter recommended that BIS delete the definition of CARICOM from § 772.1 and include CARICOM in supplement no. 3 to part 742, the High-Risk Destinations list, for consistency with 742.7(b)(3)(ii). The commenter noted that the list of the 36 countries included some member countries of CARICOM.

BIS Response: With the removal of the license exception eligibility limitation for CARICOM from LVS and BAG, it is unnecessary to define this term in the EAR, and the definition is consequently removed from § 772.1.

Interagency Working Group

Comment 44: Some commenters supported the creation of the interagency working group headed by the Department of State. However, one commenter pointed out that interagency review could increase the administrative burden on the government in adjudicating license applications.

BIS Response: BIS has decided to remove the “Safeguard” working group because the existing interagency license review process, described in § 750.4, provides sufficient opportunity for BIS to benefit from the expertise of its interagency partners prior to license issuance.

Congressional and Conventional Arms Reporting Requirement

Comment 45: Some commenters stated that Commerce should reinstate Congressional notification for certain firearms export licenses and deny any licenses for which Congress indicates its disapproval.

BIS Response: BIS does not agree with this comment. Such notifications are not statutorily required. As set forth in ECRA, Congress has authorized BIS to regulate the export of 0x5zz items and determine whether that transaction would violate U.S. national security or foreign policy interests. Putting the responsibility on Congress to review applications and approve or deny them would consequently be contrary to ECRA.

Automated Export System (AES) Changes

Comment 46: One commenter was gratified to see BIS's statement that nearly all exporters have been using the alternative reporting method, introduce in the January 2020 EAR final rule, and made mandatory in the Firearms IFR. The commenter stated that the alternative reporting method is a more efficient way to provide the required information both for the exporter and for BIS in preparing the conventional arms reports.

BIS Response: BIS agrees. It is a more efficient way to provide the required information without imposing an additional burden on the exporter or the U.S. Government.

Comment 47: One commenter noted that the revised regulatory text of § 758.1(g)(4)(ii) has two inconsistencies. First, the commenter pointed out that the sentence references ECCNs “0A508.a.1, or .a.2.” However, the descriptors listed in § 758.1(g)(4)(ii)(E) state “under 0A508, enter .a or .b.” The commenter notes the first sentence's inclusion of paragraphs .a.1 and .a.2 is an error and that the reference to paragraphs .a.1 and .a.2 should be deleted.

BIS Response: BIS thanks this commenter for bringing these points to the agency's attention and is revising § 758.1 as appropriate.

III. Description of Regulatory Changes

This final rule retains, modifies, or removes, with respect to the changes made to the EAR by the Firearms IFR, the following EAR provisions described under Table 1.

Table 1—Identification of Changes Made to Existing EAR Regulatory References To Reflect the Revisions Made After the Firearms IFR
EAR references | Firearms IFR changes | Not changed in this rule | Changed in this rule
Supplement no. 1 to Part 738 Commerce Country Chart | Placed an X in the CC 2 column on the Chart for all countries except Canada. |  | Reverts the Chart to pre-Firearms IFR, including the pre-Firearms IFR 0x5zz control policy footnote for Australia and the United Kingdom.
§ 740.2(a)(24) | Required exporter to obtain and provide import certification or equivalent document from importing country prior to using a license exception for 0x5zz items. |  | Removes (and reserves) paragraph (a)(24).
§ 740.3(b) | Rendered 0x5zz items (except 0A504.g) ineligible for LVS when destined for countries in CARICOM or Country Group D:5. |  | Removes the eligibility restriction for CARICOM and Country Group D:5.
§ 740.14(e) | Added parenthetical to clarify BAG is limited to three firearms or shotguns in total. | X |
§ 740.14(e)(5) | Limited eligibility to countries other than those in CARICOM or in Country Group D:5 (except for Zimbabwe). |  | Removes paragraph (e)(5).
§ 742.6(b) | Restructured paragraph (b)(1)(i) into new paragraphs (b)(1)(i)(A)-(G). | X |
§ 742.7(a) | Restructured paragraph (a). |  | Revises the structure of paragraph (a) for clarity;
|  |  | Makes conforming changes to reflect ECCNs 0A508 and 0A509.
§ 742.7(b) | Reworded paragraph (b)(1) to apply to new paragraphs (a)(1)-(4) created by Firearms IFR. |  | Reverts paragraph (b)(1) text to pre- Firearms IFR;
| Added paragraph (b)(3) to apply to new paragraph (a)(5), along with a related note. |  | Removes paragraph (b)(3) and note to paragraph (b)(3) added in Firearms IFR.
§ 742.17(b) | Review policy revised to case-by-case when application is supported by an import certificate or equivalent document issued by the importing country. |  | Reverts text to pre-Firearms IFR.
Supplement no. 3 to part 742 High-Risk Destinations for Firearms and Related Items | Added list of 36 High-Risk Destinations. |  | Removes (and reserves) the Supplement and the list of High-Risk Destinations.
§ 743.4(a) | Restructured and updated entire section. | X |
§ 743.6(a) introductory text, (a)(1) and (2), (b), and (c) | Conforming changes for ECCNs 0A506 and 0A507. |  | Removes (and reserves) the section regarding Congressional notification for export of certain semi-automatic firearms.
§ 748.8(z) | Changed text “Semiautomatic firearms controlled under ECCN 0A501.a” to “Firearms”. | X |
§ 748.12(a), (d), and (e) | Changed import certificate or import permit requirements for firearms controlled under 0x5zz; |  | Reverts text to pre-Firearms IFR; Revises text to allow electronic documents; Keeps new wording for OAS description in paragraph (a)(2).
Supplement no. 2 to part 748, paragraph (aa) and (bb) | Revised paragraph (aa) to reflect expanded license application requirements. |  | Removes paragraph (aa).
| Conforming edit to redesignate former paragraph (aa) as (bb). |  | Redesignates paragraph (bb) as (aa) due to the removal of paragraph (aa).
§ 750.4(d)(2)(v) | Added “The Safeguard” Working Group. |  | Removes “The Safeguard” Working Group.
§ 750.7(g) | One-year validity period for 0A5zz ECCNs. |  | Reverts text to pre-Firearms IFR.
§ 758.1(g)(4)(ii) | Conforming changes for ECCNs 0A506, 0A507, 0A508, and 0A509. |  | Adds clarifying edits to correct non-substantive errors.
§ 772.1 | Addition of CARICOM definition. |  | Removes CARICOM definition.
ECCN 0A501 | Conforming changes for ECCNs 0A506, 0A507, 0A508, 0A509, under the heading. 0A506, 0A507, 0A508, 0A509, and 0A509.a or .c under the Related Controls paragraphs as applicable. 0A509.b or .c under Note 5 to 0A501.e. 0A506 and 0A507 under Technical Note to 0A501.c. 0A506, 0A507, and 0A509 under 0A501.x. 0A506 and 0A507 under 0A501.y. 0A509.b or .c under Note 5 to 0A501.e. Applied CC 2 controls on entire ECCN except 0A501.y. |  | Removes CC control; Revises Special Conditions for STA.
ECCN 0A502 | Conforming changes for ECCNs 0A508 and 0A509 under the heading; 0A506, 0A507, 0A508, and 0A509 under Related Controls paragraphs as applicable; Removed CC controls for specific barrel length and end user and applied CC 2 control on entire ECCN. |  | Reverts CC control to pre-Firearms IFR; Revises Special Conditions for STA.
ECCN 0A504 | Applied CC 2 controls to entire ECCN. |  | Reverts CC control to pre-Firearms IFR;
ECCN 0A505 | Conforming changes for ECCNs 0A506 and 0A507 under 0A505.a. 0A506, 0A507, and 0A508 under 0A505.d. Applied CC 2 control to 0A505.a, .b, and .x. |  | Reverts CC control to pre-Firearms IFR; Revises Special Conditions for STA.
ECCN 0A506 | New ECCN. |  | Removes CC control; Revises Special Conditions for STA; Revises item paragraphs.
ECCN 0A507 | New ECCN. |  | Removes CC control; Revises Special Conditions for STA; Adds a clarifying note.
ECCN 0A508 | New ECCN. |  | Reverts CC control to pre-Firearms IFR; Revises item paragraphs.
ECCN 0A509 | New ECCN. |  | Revises NS, RS, CC, and AT to apply pre-Firearms IFR controls; Revises Special Conditions for STA; Revises LVS to apply pre-Firearms IFR license exception.
ECCN 0D501 | Conforming changes for ECCNs 0A506, 0A507, and 0A509 under the heading. Applied CC 2 control to ECCN. |  | Removes CC control; Revises Special Conditions for STA.
ECCN 0D505 | Applied CC 2 control to “software” for 0A505.a, .b, and .x. |  | Removes CC control; Revises Special Conditions for STA.
ECCN 0E501 | Conforming changes for ECCNs 0A506, 0A507, and 0A509 under the heading, 0E501.a, and .b. Applied CC 2 control to ECCN. |  | Removes CC control; Revises Special Conditions for STA.
ECCN 0E502 | Conforming changes for ECCNs 0A508 and 0A509 under the heading. Applied CC 2 control to ECCN. |  | Reverts CC control to pre-Firearms IFR; Updates ECCN heading.
ECCN 0E504 | Applies CC 2 control to ECCN. |  | Removes CC control; Revises Special Conditions for STA.
ECCN 0E505 | Applies CC 2 control to ECCN. |  | Reverts CC control to pre-Firearms IFR; Revises Special Conditions for STA.
§§ 732.2(b); 734.7(c); 740.2(a)(21) and; (23); 740.9(a), (b), and (b)(5); 740.9(b)(5)(ii); 740.9, Note 1 to paragraph (b)(5); 740.10(b)(1) and (b)(4); 740.10(b)(4)(i); 740.10, Note 1 to paragraph (b)(4); 740.11; 740.14(e)(1); 740.14(e)(1)(i); 740.14(e)(3); 740.14(e)(3)(i); 740.14(e)(3)(iv); 740.14(e)(4); 740.20(b)(2)(ii)(A); 740.20(b)(2)(ii)(B); 742.6(b); 742.7; 742.17(f); 743.4(c) (redesignated as paragraph (b)); 748.12(a), (d), and (e); Supplement no. 2 to part 748, paragraph (z); Supplement no. 2 to part 748, Note 1 to paragraph (z); 758.1(b)(9), Note 1 to paragraph (c)(1), and (g)(4)(i); 758.10(a) introductory text, Note 1 to paragraph (b)(1), and Note 2 to paragraph (b)(2); 758.11(a) and (b)(2); 762.2(a)(11); 762.3(a)(5), ECCN 0B501; and ECCN 2B018 | Conforming changes for new ECCNs. | X |

A. ECCNs for Firearms and Certain Related Parts, Components, Attachments, and Accessories

Overview of the Firearms IFR 0x5zz ECCNs

Prior to the Firearms IFR, ECCN 0A501 controlled rifles, pistols, and related “parts,” “components,” and certain “attachments,” and “accessories” on the CCL, while ECCN 0A502 controlled shotguns and related “parts,” “components,” and certain “attachments,” and “accessories.” Neither ECCN distinguished between non-automatic and semi-automatic firearms, and BIS was unable to readily disaggregate licensing and export data to efficiently evaluate information that is useful to assess the risk of diversion.

To better allow BIS to evaluate exports, reexports, or transfers (in-country) for diversion concerns of different types of 0x5zz items, the Firearms IFR added four new ECCNs to the CCL. ECCN 0A506 controls semi-automatic rifles, ECCN 0A507 controls semi-automatic pistols, ECCN 0A508 controls semi-automatic shotguns, and ECCN 0A509 controls certain “parts,” “components,” devices, “accessories,” and “attachments” for items controlled under ECCNs 0A506, 0A507, and 0A508. BIS is retaining the four new ECCNs in this final rule because they enable BIS to better prioritize enforcement resources in mitigating firearms diversion risks.

When the Firearms IFR added the new ECCNs for 0A506 and 0A508, those ECCNs included paragraphs that identified specific features or accessories (e.g., folding, telescoping, or collapsible stock; separate pistol grips; or a flash suppressor). In its review of the Firearms IFR, and bolstered by public comments, BIS has determined that these paragraphs are unnecessary and do not provide any benefit in preventing diversion. BIS is maintaining only the item paragraphs a. and .b in these ECCNs. For ECCN 0A506, paragraph .a will describe semi-automatic centerfire (non-rimfire) rifles equal to .50 caliber (12.7 mm) or less, and paragraph .b will describe semi-automatic rimfire rifles equal to .50 caliber (12.7 mm) or less. For ECCN 0A508, paragraph .a will describe semi-automatic centerfire (non-rimfire) shotguns, and paragraph .b will describe semi-automatic rimfire shotguns. As a result of these revisions, ECCNs 0A506, 0A507, and 0A508 will use standardized and simplified item paragraph descriptions, which will make it easier for exporters to correctly identify their items.

ECCN 0A507 is also revised by adding note 2 to clarify that items, including pistols, built with, e.g., AR- or AK-style receivers (frames) are controlled under ECCN 0A506. Other agencies and exporters might identify these items as pistols; BIS controls them under ECCN 0A506 along with semi-automatic rifles. This note will help exporters correctly identify their items.

BIS revises ECCNs 0A506 and 0A507 to remove the crime control reason for control from these ECCNs, thereby returning the items controlled under them to the control level in place prior to the Firearms IFR (i.e., under ECCN 0A501). This final rule also revises ECCN 0A508 to apply the pre-Firearms IFR crime control to shotguns of different lengths and end users: for shotguns with a barrel length less than 24 inches (60.96 cm), CC 1 is applied; for shotguns with a barrel length greater than or equal to 24 inches (60.96 cm) regardless of end user, CC 2 is applied; and for shotguns with a barrel length greater than or equal to 20 inches (60.96 cm) for sale or resale to police or law enforcement, CC 3 is applied.

To assist exporters in understanding license exception availability, BIS revises the special conditions for License Exception STA in ECCNs 0A506, 0A507, and 0A508 to provide the limitations in the ECCNs that were in paragraphs 740.20(b)(2)(ii)(A) and (B) of STA for items controlled in ECCNs 0A501 and 0A502 and in the entry for 0A501 on the CCL prior to the Firearms IFR.

BIS is also revising ECCN 0A509, which controls items that were controlled under ECCNs 0A501 and 0A502 prior to the Firearms IFR. These two ECCNs had different reasons for control prior to the Firearms IFR. To apply the pre-Firearms IFR reasons for control for items previously classified under ECCN 0A502, the reasons for control of ECCN 0A509 are revised by excluding the following items from the NS, RS, and AT reasons for control: item paragraph .a for items for ECCNs 0A502 or 0A508, and item paragraph .d. Similarly, the CC reason for control that was applied to items that were controlled under 0A502 prior to the Firearms IFR is applied to paragraph 0A509.a for items related to 0A502 or 0A508, and paragraph 0A509.d. Special Conditions for STA are also revised to apply STA for this ECCN in the manner that was applied under 0A501 and 0A502 prior to the Firearms IFR.

This final rule also corrects an error in ECCN 0A509 in the related controls list, number 7, that references item paragraph .c rather than the correct reference to paragraph .d, when describing “parts” and “components” that are not controlled for semi-automatic shotguns in this entry. ECCN 0A509 is also revised to include LVS list-based license exception eligibility for certain “parts,” “components,” “devices,” “accessories,” and “attachments” for items previously controlled under ECCNs 0A501 and 0A502, consistent with license exception eligibility for certain 0A501 and 0A502 items prior to the Firearms IFR. Specifically, this final rule adds a $500 LVS license exception for 0A509.a, and a $500 LVS license exception for 0A509.b, .c, and .d if the ultimate destination is Canada.

Revisions to the EAR for ECCNs 0A506, 0A507, 0A508, and 0A509

ECCN 0A506 is revised by this final rule by removing the text `CC applies to entire entry' and `CC Column 2' from the control table. This ECCN is further revised by removing item paragraphs .a.1 through .a.6. This final rule revises paragraph 0A506.a to read `semi-automatic centerfire (non-rimfire) rifles equal to .50 caliber (12.7 mm) or less.' Paragraph 0A506.b is revised by this final rule to read `semi-automatic rimfire rifles equal to .50 caliber (12.7 mm) or less.' Special conditions for STA in ECCN 0A506 are added to the reasons for control section with the text `License Exception STA may not be used for ECCN 0A506, to any of the destinations listed in Country Group A:5 or A:6 (See supplement no.1 to part 740 of the EAR).'

ECCN 0A507 is revised by this final rule by removing the text `CC applies to entire entry' and `CC Column 2' from the control table. A new Note 2 to 0A507 is added with the text `Firearms, including pistols, built with, e.g., AR- or AK-style receivers (frames) are controlled under ECCN 0A506.' Special conditions for STA in ECCN 0A507 are added to the reasons for control section with the text `License Exception STA may not be used for ECCN 0A507, to any of the destinations listed in Country Group A:5 or A:6 (See supplement no.1 to part 740 of the EAR).'

ECCN 0A508 is revised by this final rule by removing the text `CC applies to entire entry' and `CC Column 2' from the control table. A new row after the FC row is added with the text `CC applies to shotguns with a barrel length less than 24 in. (60.96 cm) and shotgun “components” controlled by this entry regardless of end user' is added under the control(s) column and `CC Column 1' under the country chart column. After this row, a new row is added with the text `CC applies to shotguns with a barrel length greater than or equal to 24 in. (60.96 cm), regardless of end user' under the control(s) column and `CC Column 2' under the country chart column. A final new row is added above the UN row with the text `CC applies to shotguns with a barrel length greater than or equal to 24 in. (60.96 cm) if for sale or resale to police or law enforcement' under the control(s) column and `CC Column 3' under the country chart column.

This final rule also revises ECCN 0A508 by removing item paragraphs a.1 through a.6; paragraph 0A508.a is revised to read `semi-automatic centerfire (non-rimfire) shotguns,' and paragraph 0A506.b is revised to read `semi-automatic rimfire shotguns.' Special conditions for STA in ECCN 0A508 are added to the reasons for control section with the text `License Exception STA may not be used for any shotguns with barrel length less than 18 inches controlled in 0A508, to any of the destinations listed in Country Group A:5 or A:6 (See supplement no.1 to part 740 of the EAR).'

ECCN 0A509 is revised by this final rule by removing the text `CC applies to entire entry' and `CC Column 2' from the control table and replacing it with `CC applies to 0A509.a for items for ECCN 0A502 or ECCN 0A508, and 0A509.d' under the control(s) column and `CC Column 1' under the country chart column.' The control table is further revised by adding the text `except 0A509.a for items for ECCN 0A502 or ECCN 0A508, and 0A509.d' after the word `entry' in the NS, RS, and AT rows under the control(s) column. This final rule replaces `.c' with `.d' in item number seven in the related controls list. The ECCN is revised by adding a list based license exception with the text `LVS: $500 for 0A509.a, $500 for 0A509.b, .c, and .d if the ultimate destination is Canada.' Special conditions for STA in ECCN 0A509 are added to the reasons for control section with the text `License Exception STA may not be used for ECCN 0A509, except for 0A509.a for items for ECCN 0A502 or ECCN 0A508, and 0A509.d, to any of the destinations listed in Country Group A:5 or A:6 (See supplement no.1 to part 740 of the EAR).' Finally, a clarifying revision is made to Note 1 to 0A509.b and .c by adding a sentence to the end of the note to specify that `For 0A509.c, receivers (frames) includes chassis “components” that serve as the legal firearm (i.e., with modern pistols, the chassis itself is the serialized firearm).'

Overview of the Existing 0x5zz ECCNs

In the Firearms IFR, BIS reevaluated the reasons for control for rifles, pistols, shotguns, ammunition, and related “parts,” “components,” “accessories,” “attachments,” “software,” and “technologies” detailed under existing ECCNs 0A501, 0A502, 0A504, 0A505, 0D501, 0D505, 0E501, 0E502, 0E504, and 0E505, and applied CC column 2-based controls on most items under these ECCNs. Certain specific “parts” and “components” and ammunition controlled under ECCNs 0A501.y, 0A505.c, and 0A505.d continued not to be controlled for CC reasons. In this final rule, BIS has reassessed the appropriate controls to minimize burdens on exporters to the extent possible. BIS revises the crime control for the existing 0x5zz ECCNs by returning it to its application prior to the Firearms IFR.

Changes to the Existing 0x5zz ECCNs

Prior to the Firearms IFR, crime control was not applied to ECCN 0A501. In this final rule, BIS removes crime control from the reason for control from the ECCN. This revision is in keeping with the BIS policy to ensure that appropriate controls are in place for 0x5zz items; notably, NS, RS, FC, UN, and AT reasons for control remain applicable to 0A501. This revision returns 0A501 to its pre-Firearms IFR control.

Prior to the Firearms IFR, either CC Column 1, CC Column 2, or CC Column 3 of supplement no. 1 to part 738 (Commerce Country Chart) applied to shotguns controlled under ECCN 0A502 based on the barrel length and particular end user (specifically, police or law enforcement). The Firearms IFR revised the CC reasons for control on 0A502 by applying CC Column 2 to the entire entry of 0A502 regardless of barrel length or end user. This final rule revises the crime control for ECCN 0A502 to apply the control in place prior to the Firearms IFR as follows: for shotguns with a barrel length less than 24 inches (60.96 cm), CC 1 is applied; for shotguns with a barrel length greater than or equal to 24 inches (60.96 cm) regardless of end user, CC 2 is applied; and for shotguns with a barrel length greater than or equal to 24 inches (60.96 cm) for sale or resale to police or law enforcement, CC 3 is applied.

Additionally, to assist exporters in understanding license exception availability, BIS revises the special conditions for STA in ECCNs 0A501, 0A502, 0A505, 0D501, 0D505, 0E501, 0E504, and 0E505 to state more clearly the limitations in the ECCNs that were in paragraphs 740.20(b)(2)(ii)(A) and (B) of License Exception STA or in the relevant ECCNs prior to the Firearms IFR. As a result of these changes, the applicable limitations on STA availability for these ECCNs are now set forth in the special conditions section of each ECCN.

The Firearms IFR also changed the crime controls for firearm-related items by revising ECCN 0A504, optical sighting devices for firearms, and ECCN 0A505, ammunition, by applying CC Column 2 to those ECCNs. This final rule revises ECCN 0A504 by reverting the crime control to CC Column 1.

This final rule also revises ECCN 0A505 by removing items 0A505.a and . x from the CC control and reverting the CC control from CC Column 2 to CC Column 1. Both of these revisions restore the reasons for control that had applied prior to the Firearms IFR.

The Firearms IFR also applied CC 2 to ECCNs 0D501 (for the entire entry except “software” for commodities in ECCN 0A501.y or equipment in ECCN 0B501 for commodities in ECCN 0A501.y), 0D505 (this control was not correctly reflected in ECCN 0D505 in the Code of Federal Regulations due to an inadvertent error), 0E501, 0E502, 0E504, and 0E505 (for “technology” for the “development” or “production” of commodities in 0A505.b). This final rule restores the reasons for control for these ECCNs to those that were in place prior to the Firearms IFR. For ECCN 0E502 and 0E505 (for “technology” for the “development” or “production” of commodities in 0A505.b), the reason for control is revised from CC2 to CC1. For ECCNs 0D501, 0D505, 0E501, 0E504, and 0E505 (for “technology” for the “development” or “production” of commodities in 0A505.a or .x), the CC2 reason for control is removed.

The changes described in section III.A of this preamble, including the changes to both the new and existing 0x5zz ECCNs, are expected to result in a decrease of 1200 license applications received annually by BIS.

Revisions to the EAR for Existing 0x5zz ECCNs

This final rule revises the control tables for ECCNs 0A501, 0A502, 0D501, 0D505, 0E501, and 0E504 by removing the row with the text `CC applies to entire entry' in the control(s) column and `CC Column 2' in the Country Chart column from all of these ECCNs.

ECCN 0A501 is amended by this final rule by revising the text specifying the special conditions for STA to read as follows: `License Exception STA may not be used for ECCN 0A501.a, .b, .c, .d, or .e, to any of the destinations listed in Country Group A:5 or A:6 (See supplement no.1 to part 740 of the EAR). License Exception STA may not be used for any item in this entry to any of the destinations listed in Country Group A:6 (See Supplement No.1 to part 740 of the EAR).' Finally, this rule makes a clarifying revision to ECCN 0A501 by adding Technical Note 3 to 0A501 to specify that blank firing adapters, which are attachments to semi-automatic and automatic firearms used in conjunction with blank cartridges for safety and functional reasons and used for firearm training purposes by police, military, sporting shooters, as well as in the movie industry, are designated as EAR99.

This final rule revises ECCN 0A502 by adding a new row after the FC row with the text `CC applies to shotguns with a barrel length less than 24 in. (60.96 cm) and shotgun “components” controlled by this entry regardless of end user' is added under the control(s) column and `CC Column 1' under the country chart column. Specifically, a new row is added with the text `CC applies to shotguns with a barrel length greater than or equal to 24 in. (60.96 cm), regardless of end user' under the control(s) column and `CC Column 2' under the country chart column. A final new row is added above the UN row with the text `CC applies to shotguns with a barrel length greater than or equal to 24 in. (60.96 cm) if for sale or resale to police or law enforcement' under the control(s) column and `CC Column 3' under the country chart column. Special conditions for STA are added to the reasons for control section with the text `License Exception STA may not be used for any shotguns with barrel length less than 18 inches controlled in 0A502, to any of the destinations listed in Country Group A:5 or A:6 (See supplement no.1 to part 740 of the EAR).'

This final rule revises the reason for control table for ECCN 0A504 by replacing the number `2' with the number `1' in the country chart column for the CC row.

This final rule also revises ECCN 0A505 by replacing the number `2' with the number `1' in the country chart column for the CC row. The CC row is further revised by removing the text `.a, ' and `, and .x' from the control(s) column. Additionally, ECCN 0A505 is amended by this final rule by revising the text specifying the special conditions for STA to read as follows: `License Exception STA may not be used for ECCN 0A505, to any of the destinations listed in Country Group A:6 (See supplement no.1 to part 740 of the EAR).'

This final rule revises the text specifying the special conditions for STA in ECCN 0D501 to read as follows: `License Exception STA may not be used for any “software” in ECCN 0D501, to any of the destinations listed in Country Group A:6 (See supplement no.1 to part 740 of the EAR).'

ECCN 0D505 is amended by this final rule by revising the text specifying the special conditions for STA to read as follows: `License Exception STA may not be used for any “software” in ECCN 0D505, to any of the destinations listed in Country Group A:6 (See supplement no.1 to part 740 of the EAR).

This final rule revises the text specifying the special conditions for STA in ECCN 0E501 to read as follows: `License Exception STA may not be used for any “technology” in ECCN 0E501, to any of the destinations listed in Country Group A:6 (See supplement no.1 to part 740 of the EAR).'

This final rule revises the control table for ECCN 0E502 by replacing the `2' after `CC Column' in the Country Chart row with a `1.'

ECCN 0E504 is revised by adding special conditions for STA with the text `License Exception STA may not be used for any “technology” in ECCN 0E504, to any of the destinations listed in Country Group A:5 or A:6 (See supplement no.1 to part 740 of the EAR).' The control table for ECCN 0E505 is revised by replacing the number `2' with the number `1' in the country chart column for the CC row. The CC row is further revised by removing the text `.a, ' and `, and .x' from the control(s) column. This final rule also places double quotes around the word `equipment' where it appears in the NS and RS rows in the control table for ECCN 0E505. Additionally, the text specifying the special conditions for STA is revised to read as follows: `License Exception STA may not be used for any “technology” in ECCN 0E505, to any of the destinations listed in Country Group A:6 (See supplement no.1 to part 740 of the EAR).

EAR Conforming Changes To Reflect the Firearms IFR 0x5zz ECCNs for Semi-Automatic Firearms and Semi-Automatic Shotguns

With the exception of those commodities controlled under new ECCNs 0A506, 0A507, 0A508, and 0A509 as described above, all firearms, shotguns, and their “parts,” “components,” “accessories,” “attachments,” and equipment remain controlled under ECCNs 0A501 and 0A502 on the CCL. With BIS maintaining the four new ECCNs, this final rule retains the conforming changes made throughout the EAR pursuant to the Firearms IFR referencing these new ECCNs where ECCNs 0A501 and 0A502 were referenced prior to the Firearms IFR. These conforming changes ensure that the semi-automatic versions of end-item firearms and shotguns controlled under ECCNs 0A506, 0A507, and 0A508, as well as the commodities controlled under ECCN 0A509, will continue to be subject to the same licensing restrictions and limitations on license exception availability as non-automatic firearms, shotguns, and related items.

B. Changes to License Exceptions and License Review Policies

Overview of the Changes to the Use of License Exceptions

Section 740.2 of the EAR details restrictions in place on the use of all License Exceptions. Paragraph (a) enumerates these restrictions. The Firearms IFR made two changes to this section. With the addition of the CC control under ECCNs 0A501, 0A506, and 0A507, the Firearms IFR revised the general restriction on the use of license exceptions under § 740.2(a)(4)(iii) to remove a parenthetical that could be read to limit the use of License Exception BAG to only certain shotguns and shotgun shells for personal use. BIS maintains this clarifying revision.

The Firearms IFR added paragraph (a)(24) to § 740.2 as part of the requirement for exporters to obtain a copy of an import certificate or equivalent document (if required by the government of the importing country) in order to use any license exception for items controlled under ECCNs 0A501, 0A502, 0A504, 0A505, 0A506, 0A507, 0A508, or 0A509. This final rule removes this requirement based on BIS's determination that it is unnecessary. However, BIS will continue to include the pre-Firearms IFR standard rider on 0x5zz item licenses in situations in which an import certificate or equivalent document must be obtained if required by the importing country prior to using the license. While this change should reduce the burden on exporters, it is likely to be negligible and is not expected to change the burden hours for exporters, because exporters should have an existing process to identify when an import certificate or equivalent document is required by the importing country.

The revision to § 740.2 is consistent with BIS's overall approach in this final rule to reduce the regulatory burden on the American people and industry.

Revisions to the EAR

This final rule removes and reserves paragraph § 740.2(a)(24).

License Exception LVS

License Exception LVS is detailed under § 740.3. In this final rule, BIS is revising the Firearms IFR destination eligibility restrictions for LVS under paragraph (b). Specifically, as amended by the Firearms IFR, LVS was made unavailable for commodities controlled under 0x5zz ECCNs (except 0A504.g) for destinations in CARICOM or Country Group D:5. This final rule removes the license exception eligibility destination restriction for CARICOM and Country Group D:5 and returns this paragraph to its pre-Firearms IFR text. BIS has assessed that a restriction on the use of LVS for destinations in CARICOM and Country Group D:5 is not necessary to protect U.S. national security and foreign policy interests. Should a country assess that more restrictive controls are necessary, its own import restrictions can address those concerns. This revision is in keeping with BIS's commitment to remove unnecessary regulations that impose a burden on U.S. companies and the American people. License Exception LVS remains available only for certain commodity ECCNs. This change is expected to decrease the number of annual license applications by 500.

License Exception BAG

License Exception BAG is detailed under § 740.14. License Exception BAG authorizes individuals leaving the United States either temporarily (i.e., traveling) or longer-term (i.e., moving) and crew members of exporting or reexporting carriers to take, as personal baggage, certain items. The Firearms IFR revised § 740.14 such that destination eligibility under License Exception BAG for items controlled under ECCNs 0A501, 0A502, 0A504, 0A505, 0A506, 0A507, 0A508, and 0A509 is limited to destinations other than those specified in Country Group D:5 (except for Zimbabwe) or in CARICOM by adding paragraph (e)(5). For the reasons described in the revision to LVS, BIS has determined that it is unnecessary to retain these destination eligibility restrictions on the use of BAG. Eliminating these restrictions is also consistent with BIS's general approach in this final rule to remove burdensome and unnecessary regulations. In § 740.14, paragraph (e)(5) is therefore removed by this final rule. BIS will continue to consider the risk that 0x5zz items will be diverted or misused in any destination and will take enforcement action when appropriate.

The Firearms IFR revised § 740.14 to clarify that there is a limit to the number of firearms that an individual may export using license exception BAG to three firearms in total. Under paragraph (e), this has been BIS's longstanding interpretation. The Firearms IFR's clarification to license exception BAG, which assists exporters in understanding this license exception, is not changed by this final rule. BIS's interpretation of this license exception also remains unchanged. BIS does not anticipate a change in the number of annual license applications received by BIS.

Revisions to the EAR for LVS and BAG

This rule revises § 740.3(b) by removing the text `however, License Exception LVS is not available for 0x5zz items (except 0A504.g) when destined for countries in “CARICOM” or countries in Country Group D:5.' In addition, § 740.14, paragraph (e)(5) is removed.

With the removal of all references to CARICOM from §§ 740.3 and 740.14, this final rule also revises § 772.1 by removing the definition of the term.

Overview of the Changes to the License Review Policies

As part of the BIS effort to review firearms-related policies and address concerns related to misuse or diversion contrary to U.S. national security and foreign policy interests, including diversion to entities or activities that promote regional instability, abuse or violate human rights, and/or fuel criminal activities, the Firearms IFR identified two control policies for revision. The Firearms IFR revised the license review policies under the RS and CC sections in part 742 of the EAR. This final rule revises the license review policy provisions of the Firearms IFR described below. Consistent with these more streamlined review policies, BIS will continue to consider the risk that 0x5zz items will be diverted or misused in a manner that would adversely impact U.S. national security or foreign policy.

Revisions to the RS License Review Policy

The RS license review policy is detailed under § 742.6. In § 742.6, the Firearms IFR made conforming changes to paragraph (b) for the addition of the new ECCNs, as well as several structural changes to paragraph (b)(1)(i) to make the paragraph more readily understandable. This final rule maintains those conforming and structural revisions to § 742.6.

Revisions to CC License Review Policy

The Firearms IFR also revised the paragraph structure of the CC license review policy detailed under § 742.7. This final rule revises § 742.7 by placing the paragraphs referencing firearms in sequential order under paragraphs (a)(1) through (3). This final rule revises § 742.7(a)(1) by adding a reference to ECCNs 0A502, 0A504, 0A505, 0A508, 0A509, 0A982, 0E502, and 0E505. This final rule revises these ECCNs to apply the pre-Firearms IFR CC 1 control, and they are therefore added to this paragraph. Paragraphs (a)(2) and (a)(3) are revised to describe the application of the pre-Firearms IFR CC 2 and CC 3, respectively, for certain items and end users. In § 742.7, former paragraphs (a)(2), (3), and (4) are redesignated as paragraphs (a)(4), (5), and (6), respectively with no other revisions. Finally, paragraph 742.7(a)(5), added by the Firearms IFR, detailed items specific to certain firearms, shotguns, and related items, and crime control and detection instruments and equipment and related “technology” and “software” identified in the appropriate ECCNs on the CCL under CC Column 2 in the Country Chart column. This text is removed by this final rule.

Removal of the License Review Policy for Government and Non-Government End Users

The Firearms IFR restructured § 742.7(b) by adding a new paragraph (b)(3) to describe the license review policies for government and non-government end users for items controlled by paragraph (a)(5). This final rule removes the license review policy differentiating between government and non-government end users and removes § 742.7(b)(3) because it is not necessary to impose these conditions on the license review process to protect U.S. national security and foreign policy interests. The license review policies for 0x5zz ECCNs existing prior to the Firearms IFR already provide enough discretion for BIS and its interagency partners to deny licenses for military and police end users, as well as any other party to the transaction, implicated in human rights abuses, collusion with criminal groups, acts of instability or violence, or other actions that pose national security or foreign policy harm. BIS also emphasizes that the existing RS license review policy, in place prior to the Firearms IFR, imposes a presumption of denial for those types of end users. Additionally, BIS takes into account that 0x5zz items are commercial items that are sold through commercial channels, and that they are used for civil applications as well as certain government end uses (e.g., law enforcement) but are not designed for military use. Therefore, BIS notes that controls should be proportionate to the intended use of these commercial items and removes the review policy for government and non-government end users in this final rule.

Revisions to the EAR License Review Policies

In this final rule, § 742.7(a)(1) is revised by adding the text `0A502 (for shotguns with a barrel length less than 24 inches and shotgun “parts” and “components”), 0A504, 0A505.b, 0A508 (for shotguns with a barrel length less than 24 inches and shotgun “parts” and “components”), 0A509.a (for items for ECCN 0A502 or ECCN 0A508), 0A509.d,' before 0A977 and `0E502, 0E505 (“technology” for “development” or for “production” of buckshot shotgun shells controlled under ECCN 0A505.b),' before 0E977 in the list of ECCNs. Paragraph (a)(2) to § 742.7 is revised to read `shotguns with a barrel length greater than or equal to 24 inches, identified in ECCN 0A502 or 0A508 on the CCL under CC Column 2 in the Country Chart column of the “License Requirements” section regardless of end user to countries listed in CC Column 2 (supplement no. 1 to part 738 of the EAR).' Section 742.7(a)(3) is revised to read `Shotguns with barrel length greater than or equal to 24 inches, identified in ECCN 0A502 or 0A508 on the CCL under CC Column 3 in the Country Chart column of the “License Requirements” section only if for sale or resale to police or law enforcement entities in countries listed in CC Column 3 (supplement no. 1 to part 738 of the EAR).' Section 742.7(a)(4) is revised to read `Items designed for the execution of human beings as identified in ECCN 0A981 require a license to all destinations including Australia, Canada, and the United Kingdom. Controls for these items appear in each ECCN; a column specific to these controls does not appear in the Country Chart (supplement no. 1 to part 738 of the EAR).' Section 742.7(a)(5) is revised to read `Certain crime control items require a license to all destinations, except Canada. These items are identified under ECCNs 0A982, 0A503, and 0E982. Controls for these items appear in each ECCN; a column specific to these controls does not appear in the Country Chart (supplement no. 1 to part 738 of the EAR).' Finally, 742.7(a)(6) is added with the text `See § 742.11 of the EAR for further information on items controlled under ECCN 0A983, which require a license to all destinations, including Australia, Canada, and the United Kingdom. Controls for these items appear in each ECCN; a column specific to these controls does not appear in the Country Chart (supplement no. 1 to part 738 of the EAR).'

Section 742.7(b) is revised by removing the text `paragraph (a)(1) through (a)(4).' Additionally, in § 742.7, paragraph (b)(3) and the note to paragraph (b)(3) are removed by this final rule.

Revisions to the Commerce Country Chart

This final rule revises supplement no. 1 to part 738 by removing CC 2 from every country except for the following: Armenia, Azerbaijan, Belarus, Cambodia, Fiji, Georgia, Iraq, Kazakhstan, Kosovo, Kyrgyzstan, Laos, Moldova, Mongolia, Montenegro, Russia, Rwanda, Serbia, Tajikistan, Turkmenistan, Ukraine, Uzbekistan, and Vietnam. This returns the Commerce Country Chart column CC 2 to its scope prior to the Firearms IFR.

Additionally, supplement no. 1 to part 738 is revised by adding new footnote ten, which applies the control policy for most 0x5zz items to Australia and the United Kingdom. The contents of this footnote were previously added to supplement no. 1 to part 738 by the rule “Export Control Revisions for Australia, United Kingdom, United States (AUKUS) Enhanced Trilateral Security Partnership” 89 FR 28594 (April 19, 2024) and revised by the rule “Export Control Revisions for Australia, United Kingdom, United States (AUKUS) Enhanced Trilateral Security Partnership; Correction” 89 FR 38838 (May 8, 2024). The contents of this footnote were removed by the Firearms IFR because the footnote was unnecessary given the implementation of a worldwide crime control on these items, including to Australia and the United Kingdom. With the addition of new footnote ten, this final rule returns to the Country Chart the 0x5zz control policy footnote for Australia and the United Kingdom, including conforming changes that reflect the addition of the ECCNs added by the Firearms IFR.

This final rule revises supplement no. 1 to part 738 by adding footnote ten with the text ` ¹⁰ A license is required to these destinations for items in the following ECCNs: 0A501 (except for 0A501.y), 0A502 for shotguns with a barrel length less than 18 inches (45.72 cm), 0A504.i, 0A505.a and .x, 0A506, 0A507, 0A508 for semi-automatic shotguns with a barrel length less than 18 inches (45.72 cm), 0A509, 0D501 (except for “software” for commodities in ECCN 0A501.y or “equipment” in ECCN 0B501 for commodities in ECCN 0A501.y), 0D505 for “software” for commodities in ECCN 0A505.a and .x and “equipment” in ECCN 0B505.a and .x, 0E501, 0E504, 0E505 for “technology” for “development,” “production,” operation, installation, maintenance, repair, overhaul, or refurbishing commodities in 0A505.a and .x; for “equipment” for those commodities in 0B505; and for “software” for that “equipment” and those commodities in 0D505.'

Overview of the Removal of the High-Risk Destinations List

In conjunction with the addition of the presumption of denial license review polices added by the Firearms IFR to § 742.7, BIS requested that the Department of State identify a list of countries where there was a substantial risk that 0x5zz items would be diverted or misused in a manner contrary to U.S. national security or foreign policy interests. In the Firearms IFR, BIS adopted a presumption of denial for exports, reexports, and transfers (in-country) to non-government end users in 36 destinations identified by State, which are listed in supplement no. 3 to part 742, High-Risk Destinations for 0x5zz Items.

Supplement no. 3 to part 742 is removed by this final rule following a consideration of the longstanding risk assessment that governs BIS's control of 0x5zz items to these destinations as well as more generally to end users in all destinations. Most of these items are controlled for NS and RS reasons, and BIS will undertake a thorough review of all license applications for such items destined for all end users in these 36 destinations (and in all other destinations). A presumption of denial policy for non-government end users in these 36 destinations is consequently not warranted. BIS has determined that the licensing policies that existed prior to the Firearms IFR are sufficient to identify the risk of diversion or misuse in these destinations in a manner contrary to U.S. national security or foreign policy goals.

With the removal of supplement no. 3 to part 742, a presumption of denial no longer applies to the application review policy for exports and reexports to non-government end users in the following destinations: The Bahamas, Bangladesh, Belize, Bolivia, Burkina Faso, Burundi, Chad, Colombia, Dominican Republic, Ecuador, El Salvador, Guatemala, Guyana, Honduras, Indonesia, Kazakhstan, Kyrgyzstan, Laos, Malaysia, Mali, Mozambique, Nepal, Niger, Nigeria, Pakistan, Panama, Papua New Guinea, Paraguay, Peru, Suriname, Tajikistan, Trinidad and Tobago, Uganda, Vietnam, and Yemen.

Revisions to the EAR High-Risk Destinations List

Supplement no. 3 to part 742, High-Risk Destinations for Firearms and Related Items, is removed and reserved.

C. License Review Policies for Exports of Firearms to OAS Member Countries

Overview of the Revision to the License Review Policies for Exports of Firearms to OAS Member Countries

The Firearms IFR revised the licensing policies for the export and reexport of most 0x5zz items to all OAS member countries under § 742.17(b).

Under this final rule, there will continue to be two distinct licensing policies for exports and reexports of 0x5zz items to OAS member countries, as revised from the policies under the Firearms IFR: a policy of general approval and a policy of denial for applications linked to drug trafficking, terrorism, and criminal activities. Under the Firearms IFR, applications supported by an FC Import Certificate or equivalent official document issued by the government of the importing country were reviewed on a case-by-case basis, as opposed to the license review policy of general approval that applied before the Firearms IFR. This final rule revises § 742.17(b) to a license review policy of general approval for applications supported by an FC Import Certificate because the pre-Firearms IFR policy, in combination with other applicable review policies, sufficiently accounts for situations in which there may be a risk of diversion or misuse. BIS does not anticipate any change to the number of license applications received annually with the removal of the case-by-case review policy. The Firearms IFR, as well as this final rule, have not changed the license review policy of denial for applications to export items linked to drug trafficking, terrorism, and criminal activities. This retention of this policy is not expected to have any impact on the number of license applications received by BIS.

Revisions to the EAR OAS License Review Policy

This final rule revises § 742.17(b) to have it read `applications supported by an FC Import Certificate or equivalent official document issued by the government of the importing country for such items will generally be approved, except there is a policy of denial for applications to export items linked to such activities as drug trafficking, terrorism, and transnational organized crime.'

D. Changes in Support Document Requirements for Firearms License Applications

Overview of the Changes to the Import Certificate Requirements

Prior to the Firearms IFR (effective May 30, 2024), BIS required the submission of an import certificate or other equivalent official document only for OAS member states described in § 748.12. By contrast, prior to the Firearms IFR, for non-OAS member states that require an import certificate or equivalent official document, the applicant was required to obtain a copy of such documentation but only required to submit it with the license application if specifically requested by BIS. The Firearms IFR required that all license applications for 0x5zz items include an import certificate or equivalent official document as part of the license application submission.

This final rule restores the requirements for the submission of this document that had applied prior to the Firearms IFR, apart from the minor conforming changes made due to the addition of the four new ECCNs and new revisions that allow for the use of electronic equivalent documents to fulfill this requirement. While this final rule revises the Firearms IFR requirement to submit an import certificate or other equivalent official document, all approved licenses for firearms will continue to include a rider which requires the exporter to maintain a current valid import permit, if required by the government of the importing country, for every export against the license. This is an element that predated the Firearms IFR and is an essential component demonstrating that EAR licensing takes into account whether foreign countries or other destinations permit the importation of 0x5zz items. With this, and other provisions that predate the Firearms IFR, BIS continues to ensure that it meets its objective of protecting U.S. national security and foreign policy interests. In reverting to the prior requirements, BIS is reducing the complexity of the submission requirements for license applications for 0x5zz items to destinations outside the OAS, thereby eliminating burdens on the industry. These changes are expected to result in a decrease of 250 import certificates or other equivalent official documents that need to be submitted with BIS license applications. BIS estimates that the time required to submit each document is 1 minute. This change will result in a decrease in burden hours of 4 hours.

The Firearms IFR revised the introductory text to § 748.12 and paragraphs (a), (b), (c), and (d). The preamble of the Firearms IFR discussed the removal of paragraph (e) by that rule, but the instruction for § 748.12 did not include the removal of that paragraph. This final rule reverts paragraphs 748.12(a), (b), (c), and (d) to their pre-Firearms IFR text, and does not revise the current paragraph (e), which is the pre-Firearms IFR text. Previously, the importer was required to provide the original or a certified copy. This change to accept electronic documents will reduce an unnecessary burden. Also, in § 748.12, paragraph (c) is revised to allow for the use of country import certificates that do not contain all of the information requested in paragraph (c). The only revision from the Firearms IFR that remains unchanged by this final rule is paragraph 748.12(a)(2)(i) which details OAS member countries. The Firearms IFR added a clarifying reference to this paragraph to state that OAS member countries include any member country that has acceded in accordance with Chapter III of the Charter of the Organization of American States.

Revisions to the EAR Import Certification Requirements

This final rule revises the introductory text to § 748.12 to read `license applications for certain firearms and related commodities require support documents in accordance with this section. For destinations that are members of the Organization of American States (OAS), an FC Import Certificate, equivalent official document, or the electronic equivalent document officially issued by the foreign government, is required in accordance with paragraphs 748.12(a) through (d) of this section. For other destinations that require a firearms import or permit, the firearms import certificate or permit is required in accordance with paragraph 748.12(e) of this section.' Paragraphs 748.12(a) through (e) are revised by this rule by replacing all instances to the reference of `import certificate,' `document,' or `a certified copy,' with `FC Import Certificate,' `its official equivalent,' or `a copy,' respectively, where necessary. Paragraph 748.12(a) is revised by replacing the text of the heading with `requirement to obtain and documentation for OAS member states' and replacing the text `if required by the importing country' with the text—`that are destined for member countries of the OAS.' Paragraph 748.12(a)(1) is revised to read `Items subject to requirement. Firearms and related commodities are those commodities controlled for “FC Column 1” reasons under 0x5zz ECCNs.' Paragraph 748.12(a)(2)(ii) is removed and reserved. Paragraph 748.12(a)(3) is revised in this final rule by add the text `OAS member' before the word `countries,' and the reference to paragraph 748.12(a)(1) is removed and replaced with `firearms and related commodities.' This final rule revises paragraph 748.12(c) by adding the phrase `as applicable' after `must contain.' Paragraph 748.12(d)(3) is revised by replacing the text `importing country' with the text `an OAS member country' and replacing the text `documents themselves' with the text `certificate or for a period of four years, whichever is shorter.' Note to paragraph 748.12(d)(3) is revised by adding the text `to an OAS member country' after the word `reexports;' removing the reference to ECCN 0A508; and adding the sentence `note that while FC Import Certificates are usually valid for 1 year, BIS licenses are generally valid for 4 years' after the second sentence of the note.

Overview of the Changes Requiring a Purchase Order and Documentation of Identity for Certain Firearms License Applications

The Firearms IFR revised paragraph (aa) in supplement no. 2 to part 748 to include the unique application and submission requirements that applied to exports of other firearms, certain shotguns, and related commodities. In supplement no. 2 to part 748, the contents of the pre-Firearms IFR paragraph (bb), `semiautomatic firearms controlled under ECCN 0A501.a,' was redesignated under paragraph (aa)(1), with conforming revisions made to the title corresponding to the addition of new ECCNs. New paragraph (aa)(2) required the submission of purchase order documentation for certain applications, and new paragraph (aa)(3) required the submission of passport or other national identity card information for certain applications in supplement no. 2 to part 748.

Addition of Purchase Order Requirement for Non-A:1 Countries

The Firearms IFR amended the EAR by adding paragraph (aa)(2) to supplement no. 2 to part 748 to require a purchase order be submitted for exports and reexports of 0x5zz items to non-A:1 countries. Previously, exporters were not required to submit a purchase order with BIS license applications unless requested during BIS's review of a particular application. Consistent with its objective to limit regulatory burden, BIS has assessed that it can eliminate the purchase order requirement while continuing to protect U.S. national security and foreign policy interests. When the 0x5zz items were moved from the USML to the CCL, BIS described the absence of a purchase order requirement as one of the reductions in regulatory burden. The other items that moved from the USML to the CCL, the “600 series” and 9x515 items, also did not have a purchase order requirement. BIS assesses that treating 0x5zz items at least equivalently, and not more restrictively, than “600 series” and 9x515 items is sufficient to protect national security and foreign policy interests.

Requiring Passport or National Identity Card for Firearms License Applications for Natural Persons Located in Destinations Other Than in Country Group A:1

The Firearms IFR amended the EAR to require that a passport or national identity card be submitted for exports and reexports of 0x5zz items to natural persons (individuals) in non-A:1 countries. Previously, passports or national identity cards were not required with submission of applications for export to individuals unless requested by BIS for a specific license application. Under the Firearms IFR, license applications for items controlled under ECCNs 0A501 (except 0A501.y), 0A502, 0A504, 0A505 (except 0A505.c, 0A505.d, and 0A505.e), 0A506, 0A507, 0A508, and 0A509 for individuals in destinations other than Country Group A:1 required the submission of a passport or national identity card for all named individual recipient end users of those items. This requirement was detailed under new paragraph (aa)(3) to supplement no. 2 to part 748. This final rule revises the EAR by removing the requirement that a passport or national identity card must be submitted for 0x5zz items to individual persons in non-A:1 countries and removes paragraph (aa)(3) to supplement no. 2 to part 748. Requiring license applicants to provide an end user passport or national identity card for 0x5zz items with the initial application would be more restrictive than the support document requirements for items of greater sensitivity (e.g., “600 series” and 9x515 items). BIS believes it will be able to assess risk and protect U.S. national security and foreign policy interests through the pre-Firearms IFR license review policy without applying this additional burden on exporters. These changes are expected to result in a decrease of 3,160 passports or other national identity card information that would otherwise be submitted annually. BIS estimates that the time required to submit each document is 1 minute, resulting in an estimated decrease in 57 burden hours. That estimate takes into account an estimated increase of 100 license applications received annually by BIS resulting from a reduced burden associated with submitting a license application.

Revisions to the EAR Submission Requirements

In supplement no. 2 to part 748—Unique Application and Submission Requirements, paragraph (aa)(2) and (aa)(3) are removed by this final rule. Paragraph (aa)(1) in supplement no. 2 to part 748 is also removed due to the removal of the congressional notification requirement discussed in section IV.A of this final rule's preamble. Paragraph (bb) is redesignated as paragraph (aa) with its text unchanged by this final rule in supplement no. 2 to part 748.

E. Removal of Formalized Interagency Working Group for Firearms License Applications

Overview of the Removal of the Interagency Working Group

BIS license applications involving 0x5zz items are reviewed by the longstanding interagency review processes specified under part 750 of the EAR. Accordingly, BIS has consulted with interagency partners regarding the review of license applications for exports and reexports of these items since their additions to the CCL effective March 2020.

The Firearms IFR formalized an interagency working group, chaired by State, to evaluate firearm diversion and misuse risks. The Firearms IFR added § 750.4(d)(2)(v), which described a new working group called “The Safeguard.”

The risk factors considered by the interagency working group were already part of interagency review for firearms-related license applications prior to the Firearms IFR. Therefore, BIS has determined that the Safeguard is largely duplicative of existing interagency review efforts and unnecessary to achieve BIS's national security and foreign policy goals. BIS will continue to gather feedback from other agencies during the interagency review process that occurs in connection with all license applications. Consistent with the goal to eliminate unnecessary regulations, BIS removes this provision from the EAR in this final rule. This change is not expected to have any impact on the number of license applications received by BIS.

Revisions to the EAR

In this final rule, § 750.4(d)(2)(v) is removed.

F. Changes to the Reduction in General License Validity Period (Restoring 4-Year License Validity for Firearms Licenses)

Overview of the Changes to the General License Validity Period

The Firearms IFR amended the EAR to reduce the general validity period from four years to one year for all future licenses involving 0x5zz items. This final rule reverses the general validity period from one year to four years for licenses involving 0x5zz items. BIS license review policy continues to apply national security and foreign policy considerations (including human rights-related considerations), and a shorter license period may be granted if warranted by circumstances.

BIS acknowledges that shorter licensing periods create a burden for both the government, which must process a greater number of license applications and renewals, and exporters who require licenses issued in a timely manner. BIS is also committed to removing unnecessary regulations that may negatively impact American businesses. This change is expected to result in a decrease of 500 license applications received annually by BIS.

Revisions to the EAR License Validity Period

This rule revises § 750.7(g) by removing, from the third sentence, the text `and controlled under ECCNs 0A501, 0A502, 0A504, 0A505, 0A506, 0A507, 0A508, or 0A509, which will generally be limited to a one-year validity period.'

G. Mandatory Identification of End-Item Firearms and Shotguns, Along With Certain “Parts,” “Components,” Devices, “Accessories,” and “Attachments” for Semi-Automatic Firearms and Semi-Automatic Shotguns in the Automated Export System, and Changes to Conventional Arms Reporting Requirements

Overview of the Mandatory Identification Requirements in the Automated Export System

The Firearms IFR created four new ECCNs, 0A506, 0A507, 0A508, and 0A509, to help distinguish between non-automatic and semi-automatic firearms exports in AES EEI filings, along with the export of certain “parts,” “components,” devices, “accessories,” and “attachments” for semi-automatic firearms and semi-automatic shotguns. In order to further enhance the export data to distinguish between end-item firearms exports and other firearms “parts,” “components,” devices, “accessories, or “attachments” exports, as well as simplify the conventional arms reporting requirements for firearms under the EAR (§ 743.4) via Electronic Export Information (EEI) in the Automated Export System (AES), the Firearms IFR revised the requirement in § 758.1(g)(4)(ii), which previously allowed exporters to complete their conventional arms reporting requirements without submitting conventional arms reports to BIS. That rule revised this reporting requirement making conventional arms reporting information in the EEI filing in AES mandatory by specifying that exporters must include the items-level classification or other items-level descriptor in the Commodity description block in the EEI filed in AES. This final rule makes no changes to the mandatory filing provision.

The Firearms IFR also expanded the scope of this mandatory export clearance requirement to include not only ECCNs 0A501.a or .b and shotguns with a barrel length less than 18 inches controlled under ECCN 0A502, but also to include items controlled under ECCNs 0A501.a or .b, 0A506.a or .b, 0A507.a and .b, shotguns with a barrel length less than 18 inches controlled under ECCNs 0A502 or 0A508.a. or .b, or “parts,” “components,” devices, “accessories,” or “attachments” controlled under 0A509.a, .b, .c, or .d. To assist exporters in identifying the information that must be included in the Commodity description block in the EEI filing in AES, the Firearms IFR added new paragraphs 758.1(g)(4)(ii)(A) through (F). In § 758.1, this final rule makes no changes to paragraphs (g)(4)(ii)(A) through (E); however, paragraph (g)(4)(ii)(F) is removed due to the fact that these items are not part of the reporting requirements described in this section. Finally, the description of items in paragraph 758.1(g)(4)(ii) for ECCN 0A508 are changed from `.a.1 or .a.2' to `.a or .b' which was the intended revision as described in the preamble of the Firearms IFR. Maintaining this provision will aid OEE in more effectively mitigating the diversion risk of firearms.

These changes have not resulted in an increase in burden; a commodity description was already required to be provided in the EEI in AES prior to the effective date of the Firearms IFR, so including this additional information as part of the commodity description does not change the burden hours for exporters.

Revisions to the EAR EEI Filing Requirements

In § 758.1, the heading is revised by removing the text `and certain “parts,” “components,” devices, “accessories,” and “attachments”.' Paragraph 758.1(g)(4)(ii) is revised by this final rule by replacing the text `.a.1, or .a.2' with `.a or .b,' and `(F)' with `(E)' after `(A) through.' Paragraph 758.1(g)(4)(ii) is further revised by removing the text `or “parts,” “components,” devices, “accessories,” or “attachments” controlled under 0A509.a, .b, .c, or .d,' and `or 0A509,'. A conforming change is also made to 758.1(g)(4)(ii) to move `or' before `0A508.' Paragraph 758.1(g)(4)(ii)(F) is removed.

Overview of the Changes to the Conventional Arms Reporting Requirement

The Firearms IFR revised § 743.4 to specify that BIS will be relying solely on the alternative submission method for obtaining the required information for the conventional arms reporting. The Firearms IFR also revised § 743.4 to make conforming changes to add references to the end-item firearms controlled under ECCNs 0A506.a and .b and 0A507.a and .b, and to specify that these semi-automatic rifles and pistols are included for the conventional arms reporting for the Wassenaar Arrangement semi-annual reporting and the United Nations annual report described under § 743.4. This approach is consistent with how these items were previously reported when controlled under ECCN 0A501.a or .b. The changes discussed below regarding BIS's use of EEI data to meet conventional arms reporting requirements affect both the existing ECCNs and the newly added ECCNs referenced in § 743.4 (i.e., ECCNs 0A501.a and .b, 0A506.a and .b, and 0A507.a. and .b). This final rule makes no changes to these provisions.

In preparing the Firearms IFR, BIS reevaluated the conventional arms reporting requirements under existing § 743.4 and the alternative submission method for ECCN 0A501.a and .b referenced under §§ 743.4(h) and 758.1(g)(4)(ii) based on its experience since ECCNs 0A501.a and .b were added to the EAR on March 9, 2020. BIS determined, based on this review, that the conventional arms reporting requirements could be simplified by making the alternative submission method the sole method that exporters may use to submit the information to meet the conventional arms reporting requirement for ECCN 0A501.a or .b, as well as for semi-automatic rifles controlled under ECCN 0A506.a and .b and semi-automatic pistols controlled under 0A507.a and .b.

Previously, BIS added the alternative submission method in § 743.4(h) of the EAR as part of the January 2020 EAR final rule to reflect exporters' recommendation that BIS use AES EEI data to obtain the information required for these two conventional arms reports. The alternative submission method gave exporters the option of including the additional .a or .b information as the first characters to appear in the commodity description block in AES, rather than requiring submission of information on end-item firearms under ECCN 0A501.a and .b in separate reports to BIS. Based on data reviewed by BIS, nearly all exporters have been using this alternative submission method to meet their conventional arms reporting requirements since March 9, 2020, the effective date of the January 2020 rule. The alternative submission method has also been an efficient method for extracting the data needed by BIS to prepare these reports. This final rule makes no changes to these provisions.

In addition, the Firearms IFR revised § 758.1(g)(4)(ii), to include the “items” level paragraph classification as the first characters to appear in the Commodity description block in the EEI filed in AES for ECCNs 0A501.a and .b, 0A506.a and .b, 0A507.a and .b, 0A508.a and .b. This final rule retains this provision, consistent with BIS's interest in aiding OEE's effort to mitigate diversion risk. Given that a commodity description was already previously required in the EEI filing in AES, including this additional information as part of the commodity description is not expected to change the burden hours for exporters.

IV. Other EAR Revisions

A. Removal of Congressional Notification Requirement for Certain Semi-Automatic Firearms License Applications

In a June 1, 2022, firearms-related final rule, “Adoption of Congressional Notification Requirement for Certain Semiautomatic Firearms Exports Under the Export Administration Regulations (EAR)” (June 1 final rule) (87 FR 32983), BIS adopted a Congressional notification requirement for license applications for semiautomatic firearms (then classified under ECCN 0A501.a) meeting certain value and destination requirements under the EAR. These items were subject to a Congressional notification requirement under the ITAR prior to their transfer to the EAR. While the ITAR's Congressional notification requirement that had previously applied to these items was informative for developing the new provision set forth in § 743.6 of the EAR (Prior notifications to Congress of exports of certain semiautomatic firearms), BIS utilized a different scope. BIS's criteria required notification to Congress prior to issuance of a license for applications to export semi-automatic firearms that are: (1) controlled under ECCN 0A501.a (which was subsequently revised to 0A506 and 0A507 as described below); (2) exported to Mexico, South Africa, Turkey, or any other country not listed in Country Group A:5 or A:6 in supplement no.1 to part 740; and (3) valued at $4 million or more. Along with the notification requirement, BIS also added a paragraph to supplement no. 2 to part 748 requiring that certain information and documentation required to comply with the notification requirement be included with export applications that were subject to the notification requirement. The Firearms IFR made conforming changes to § 743.6 and supplement no. 2 to part 748 to remove the reference to 0A501.a and add in its place references to ECCN 0A506 for semi-automatic rifles and ECCN 0A507 for semi-automatic pistols; however, no changes were made to the scope of the firearms that required congressional notification under the EAR.

Overview of the Removal of the Congressional Notification Requirement for Semi-Automatic Firearms Under the EAR

In this final rule, BIS is amending the EAR to remove and reserve § 743.6. Based on its experience in implementing this reporting requirement during the past three years, BIS has determined that this requirement, which is not required under ECRA and has imposed a burden on both industry and BIS, is not warranted, and it is therefore eliminated. There are other processes in place for BIS's Congressional oversight committees to request information on specific licenses. Specifically, the chairman or ranking member of committees of appropriate jurisdiction may request such information from BIS pursuant to 50 U.S.C. 4820(h)(2)(B)(i). These processes provide sufficient oversight into BIS's firearms licensing policies and procedures. Removing this notification requirement will not alter or otherwise affect the firearms licensing review process, including interagency review, and any related procedures. Additionally, this revision is in keeping with the BIS objective to reduce regulatory burdens.

Revision of the EAR Congressional Notification Requirement

This final rule makes the following EAR changes to implement the removal of the Congressional notification requirement. In part 743 (Special Reporting and Notification), this final rule removes and reserves § 743.6. In supplement no. 2 to part 748 (Unique Application and Submission Requirements), this final rule removes paragraph (aa)(1), as described in this section and section III.D, which specifies the unique application requirements tied to meeting the notification requirement under § 743.6 that is being eliminated by this final rule.

B. Other Revision to the Commerce Control List

This final rule revises the CCL Category 0 heading by adding the text `firearms, ammunition' after the word `equipment' to provide a better description of the items listed in this category.

Export Control Reform Act of 2018

On August 13, 2018, the President signed into law the John S. McCain National Defense Authorization Act for Fiscal Year 2019, which included the Export Control Reform Act of 2018 (ECRA), 50 U.S.C. 4801-4852. ECRA, as amended, provides the legal basis for BIS's principal authorities and serves as the authority under which BIS issues this final rule. In particular, and as noted elsewhere, Section 1753 of ECRA (50 U.S.C. 4812) authorizes the regulation of exports, reexports, and transfers (in-country) of items subject to U.S. jurisdiction. Further, Section 1754(a)(1)-(16) of ECRA (50 U.S.C. 4813(a)(1)-(16)) authorizes, inter alia, the establishment of a list of controlled items; the prohibition of unauthorized exports, reexports, and transfers (in-country); the requirement of licenses or other authorizations for exports, reexports, and transfers (in-country) of controlled items; apprising the public of changes in policy, regulations, and procedures; and any other action necessary to carry out ECRA that is not otherwise prohibited by law. Pursuant to Section 1762(a) of ECRA (50 U.S.C. 4821(a)), these changes can be imposed in a final rule without prior notice and comment.

Rulemaking Requirements

1. BIS has examined the impact of this rule as required by Executive Orders (E.O.) 12866 and 13563, which direct agencies to assess all costs and benefits of available regulatory alternatives and, if regulation is necessary, to select regulatory approaches that maximize net benefits (e.g., potential economic, environmental, public, health, and safety effects, distributive impacts, and equity). This final rule is considered a “significant regulatory action” under section 3(f) of Executive Order 12866. This final rule is considered an Executive Order 14192 deregulatory action.

2. Notwithstanding any other provision of law, no person may be required to respond to or be subject to a penalty for failure to comply with a collection of information, subject to the requirements of the Paperwork Reduction Act of 1995 (44 U.S.C. 3501 et seq.) (PRA), unless that collection of information displays a currently valid Office of Management and Budget (OMB) Control Number. This regulation involves five collections currently approved by OMB.

• OMB Control Number 0694-0088, Simplified Network Application Processing System;

• OMB Control Number 0694-0096, Five Year Records Retention Period;

• OMB Control Number 0694-0122, Licensing Responsibilities and Enforcement;

• OMB Control Number 0694-0137, License Exceptions and Exclusions; and

• OMB Control Number 0607-0152, Automated Export System (AES) Program

Additional information regarding these collections of information—including all background materials—can be found at https://www.reginfo.gov/public/do/PRAMain by using the search function to enter either the title of the collection or the OMB Control Number.

For OMB control number 0694-0088, Simple Network Application Process and Multipurpose Application Form. BIS expects an annual decrease of approximately 2100 licenses for a decrease of 1040 burden hours per year for this collection with an estimated cost decrease of $39,520. These burden hours will be removed during the current renewal approval process for this information collection.

For OMB control number 0694-0137, License Exceptions and Exclusions, BIS expects a slight decrease in burden hours for this collection with the removal of the restriction on the use of License Exceptions under § 740.2(a)(24). This required exporters to obtain a copy of an import certificate or equivalent document (if required by the importing country) before the exporter can use any license exception for items controlled under ECCNs 0A501, 0A502, 0A504, 0A505, 0A506, 0A507, 0A508, and 0A509.

Changes impacting OMB control numbers 0694-0096,0694-0122, and 0607-0152 Five Year Records Retention Period, Licensing Responsibilities and Enforcement, and Automated Export System (AES) Program respectively, are not expected to result in an increase in burden hours.

3. This rule does not contain policies with federalism implications as that term is defined under Executive Order 13132.

4. Pursuant to Section 1762 of ECRA (50 U.S.C. 4821), this action is exempt from the Administrative Procedure Act (APA) (5 U.S.C. 553) requirements for notice of proposed rulemaking, opportunity for public participation, and delay in effective date.

5. Because neither the Administrative Procedure Act nor any other law requires notice of proposed rulemaking and an opportunity for public comment for this rule, the analytical requirements of the Regulatory Flexibility Act (5 U.S.C. 601 et seq.) are not applicable. Accordingly, no Final Regulatory Flexibility Analysis is required and none has been prepared.

List of Subjects

15 CFR Part 738, 740, 750, and 758

Administrative practice and procedure, Exports, Reporting and recordkeeping requirements.

15 CFR Part 742

Exports, Terrorism.

15 CFR Part 743

Administrative practice and procedure, Reporting and recordkeeping requirements.

15 CFR Part 748

Administrative practice and procedure, Exports, Reporting and recordkeeping requirements, Terrorism.

15 CFR Part 772

Exports.

15 CFR Part 774

Exports, Reporting and recordkeeping requirements.

For the reasons stated in the preamble, BIS amends 15 CFR parts 738, 740, 742, 743, 748, 750, 758, 772, and 774 as follows:

PART 738—COMMERCE CONTROL LIST OVERVIEW AND THE COUNTRY CHART

1. The authority citation for 15 CFR part 738 is revised to read as follows:

Authority: 50 U.S.C. 4801-4852; 50 U.S.C. 4601 et seq.; 50 U.S.C. 1701 et seq.; 10 U.S.C. 8720; 10 U.S.C. 8730(e); 22 U.S.C. 287c; 22 U.S.C. 2151 note; 22 U.S.C. 3201 et seq.; 22 U.S.C. 6004; 42 U.S.C. 2139a; 15 U.S.C. 1824; 50 U.S.C. 4305; 22 U.S.C. 7201 et seq.; 22 U.S.C. 7210; E.O. 13026, 61 FR 58767, 3 CFR, 1996 Comp., p. 228.

2. Revise supplement no. 1 to part 738 to read as follows:

[Reason for control]

Countries | Chemical and biological weapons: CB 1 | Chemical and biological weapons: CB 2 | Chemical and biological weapons: CB 3 | Nuclear nonproliferation: NP 1 | Nuclear nonproliferation: NP 2 | National security: NS 1 | National security: NS 2 | Missile tech: MT 1 | Regional stability: RS 1 | Regional stability: RS 2 | Firearms convention: FC 1 | Crime control: CC 1 | Crime control: CC 2 | Crime control: CC 3 | Anti- terrorism: AT 1 | Anti- terrorism: AT 2
Afghanistan | X | X | X | X |  | X | X | X | X | X |  | X |  | X |  |
Albania ² ³ | X | X |  | X |  | X | X | X | X | X |  |  |  |  |  |
Algeria | X | X |  | X |  | X | X | X | X | X |  | X |  | X |  |
Andorra | X | X |  | X |  | X | X | X | X | X |  | X |  | X |  |
Angola | X | X |  | X |  | X | X | X | X | X |  | X |  | X |  |
Antigua and Barbuda | X | X |  | X |  | X | X | X | X | X | X | X |  | X |  |
Argentina | X |  |  |  |  | X |  | X | X |  | X | X |  | X |  |
Armenia | X | X | X | X |  | X | X | X | X | X |  | X | X |  |  |
Aruba | X | X |  | X |  | X | X | X | X | X |  | X |  | X |  |
Australia ¹⁰ | X |  |  |  |  |  |  |  |  |  |  |  |  |  |  |
Austria ³ ⁴ | X |  |  |  |  | X |  | X | X |  |  |  |  |  |  |
Azerbaijan | X | X | X | X |  | X | X | X | X | X |  | X | X |  |  |
Bahamas, The | X | X |  | X |  | X | X | X | X | X | X | X |  | X |  |
Bahrain | X | X | X | X |  | X | X | X | X | X |  | X |  | X |  |
Bangladesh | X | X |  | X |  | X | X | X | X | X |  | X |  | X |  |
Barbados | X | X |  | X |  | X | X | X | X | X | X | X |  | X |  |
Belarus ⁶ | X | X | X | X | X | X | X | X | X | X |  | X | X |  |  |
Belgium ³ | X |  |  |  |  | X |  | X | X |  |  |  |  |  |  |
Belize | X | X |  | X |  | X | X | X | X | X | X | X |  | X |  |
Benin | X | X |  | X |  | X | X | X | X | X |  | X |  | X |  |
Bhutan | X | X |  | X |  | X | X | X | X | X |  | X |  | X |  |
Bolivia | X | X |  | X |  | X | X | X | X | X | X | X |  | X |  |
Bosnia and Herzegovina | X | X |  | X |  | X | X | X | X | X |  | X |  | X |  |
Botswana | X | X |  | X |  | X | X | X | X | X |  | X |  | X |  |
Brazil | X | X |  |  |  | X | X | X | X | X | X | X |  | X |  |
Brunei | X | X |  | X |  | X | X | X | X | X |  | X |  | X |  |
Bulgaria ³ | X |  |  |  |  | X |  | X | X |  |  |  |  |  |  |
Burkina Faso | X | X |  | X |  | X | X | X | X | X |  | X |  | X |  |
Burma | X | X | X | X |  | X | X | X | X | X |  | X |  | X |  |
Burundi | X | X |  | X |  | X | X | X | X | X |  | X |  | X |  |
Cambodia | X | X |  | X |  | X | X | X | X | X |  | X | X |  |  |
Cameroon | X | X |  | X |  | X | X | X | X | X |  | X |  | X |  |
Canada | X |  |  |  |  |  |  |  |  |  | X |  |  |  |  |
Cape Verde | X | X |  | X |  | X | X | X | X | X |  | X |  | X |  |
Central African Republic | X | X |  | X |  | X | X | X | X | X |  | X |  | X |  |
Chad | X | X |  | X |  | X | X | X | X | X |  | X |  | X |  |
Chile | X | X |  | X |  | X | X | X | X | X | X | X |  | X |  |
China | X | X | X | X | X | X | X | X | X | X |  | X |  | X |  |
Colombia | X | X |  | X |  | X | X | X | X | X | X | X |  | X |  |
Comoros | X | X |  | X |  | X | X | X | X | X |  | X |  | X |  |
Congo (Democratic Republic of the) ¹ | X | X |  | X |  | X | X | X | X | X |  | X |  | X |  |
Congo (Republic of the) | X | X |  | X |  | X | X | X | X | X |  | X |  | X |  |
Costa Rica | X | X |  | X |  | X | X | X | X | X | X | X |  | X |  |
Cote d'Ivoire | X | X |  | X |  | X | X | X | X | X |  | X |  | X |  |
Croatia ³ | X |  |  |  |  | X |  | X | X |  |  |  |  |  |  |
Cuba | See part 746 of the EAR to determine whether a license is required in order to export or reexport to this destination.
Curaçao | X | X |  | X |  | X | X | X | X | X |  | X |  | X |  |
Cyprus ² ³ ⁴ | X |  |  |  |  | X | X | X | X | X |  | X |  | X |  |
Czech Republic ³ | X |  |  |  |  | X |  | X | X |  |  |  |  |  |  |
Denmark ³ | X |  |  |  |  | X |  | X | X |  |  |  |  |  |  |
Djibouti | X | X |  | X |  | X | X | X | X | X |  | X |  | X |  |
Dominica | X | X |  | X |  | X | X | X | X | X | X | X |  | X |  |
Dominican Republic | X | X |  | X |  | X | X | X | X | X | X | X |  | X |  |
Ecuador | X | X |  | X |  | X | X | X | X | X | X | X |  | X |  |
Egypt | X | X | X | X |  | X | X | X | X | X |  | X |  | X |  |
El Salvador | X | X |  | X |  | X | X | X | X | X | X | X |  | X |  |
Equatorial Guinea | X | X |  | X |  | X | X | X | X | X |  | X |  | X |  |
Eritrea ¹ | X | X |  | X |  | X | X | X | X | X |  | X |  | X |  |
Estonia ³ | X |  |  |  |  | X |  | X | X |  |  |  |  |  |  |
Eswatini | X | X |  | X |  | X | X | X | X | X |  | X |  | X |  |
Ethiopia | X | X |  | X |  | X | X | X | X | X |  | X |  | X |  |
Fiji | X | X |  | X |  | X | X | X | X | X |  | X | X | X |  |
Finland ³ ⁴ | X |  |  |  |  | X |  | X | X |  |  |  |  |  |  |
France ³ | X |  |  |  |  | X |  | X | X |  |  |  |  |  |  |
Gabon | X | X |  | X |  | X | X | X | X | X |  | X |  | X |  |
Gambia, The | X | X |  | X |  | X | X | X | X | X |  | X |  | X |  |
Georgia | X | X | X | X |  | X | X | X | X | X |  | X | X |  |  |
Germany ³ | X |  |  |  |  | X |  | X | X |  |  |  |  |  |  |
Ghana | X | X |  | X |  | X | X | X | X | X |  | X |  | X |  |
Greece ³ | X |  |  |  |  | X |  | X | X |  |  |  |  |  |  |
Grenada | X | X |  | X |  | X | X | X | X | X | X | X |  | X |  |
Guatemala | X | X |  | X |  | X | X | X | X | X | X | X |  | X |  |
Guinea | X | X |  | X |  | X | X | X | X | X |  | X |  | X |  |
Guinea-Bissau | X | X |  | X |  | X | X | X | X | X |  | X |  | X |  |
Guyana | X | X |  | X |  | X | X | X | X | X | X | X |  | X |  |
Haiti | X | X |  | X |  | X | X | X | X | X | X | X |  | X |  |
Honduras | X | X |  | X |  | X | X | X | X | X | X | X |  | X |  |
Hungary ³ | X |  |  |  |  | X |  | X | X |  |  |  |  |  |  |
Iceland ³ | X |  |  |  |  | X |  | X | X |  |  |  |  |  |  |
India ⁷ | X |  |  | X |  | X |  | X | X |  |  |  |  |  |  |
Indonesia | X | X |  | X |  | X | X | X | X | X |  | X |  | X |  |
Iran ¹ | See part 746 of the EAR to determine whether a license is required in order to export or reexport to this destination.
Iraq ¹ | X | X | X | X | X | X | X | X | X | X |  | X | X |  |  |
Ireland ³ ⁴ | X |  |  |  |  | X |  | X | X |  |  |  |  |  |  |
Israel | X | X | X | X | X | X | X | X | X | X |  | X |  | X |  |
Italy ³ | X |  |  |  |  | X |  | X | X |  |  |  |  |  |  |
Jamaica | X | X |  | X |  | X | X | X | X | X | X | X |  | X |  |
Japan ³ | X |  |  |  |  | X |  | X | X |  |  |  |  |  |  |
Jordan | X | X | X | X |  | X | X | X | X | X |  | X |  | X |  |
Kazakhstan | X | X | X |  |  | X | X | X | X | X |  | X | X |  |  |
Kenya | X | X |  | X |  | X | X | X | X | X |  | X |  | X |  |
Kiribati | X | X |  | X |  | X | X | X | X | X |  | X |  | X |  |
Korea, North ¹ | See Sections 742.19 and 746.4 of the EAR to determine whether a license is required in order to export or reexport to this destination.
Korea, South ³ ⁴ | X |  |  |  |  | X |  | X | X |  |  |  |  |  |  |
Kosovo | X | X |  | X |  | X | X | X | X | X |  | X | X | X |  |
Kuwait | X | X | X | X |  | X | X | X | X | X |  | X |  | X |  |
Kyrgyzstan | X | X | X | X |  | X | X | X | X | X |  | X | X |  |  |
Laos | X | X |  | X |  | X | X | X | X | X |  | X | X |  |  |
Latvia ³ | X |  |  |  |  | X |  | X | X |  |  |  |  |  |  |
Lebanon ¹ | X | X | X | X |  | X | X | X | X | X |  | X |  | X |  |
Lesotho | X | X |  | X |  | X | X | X | X | X |  | X |  | X |  |
Liberia | X | X |  | X |  | X | X | X | X | X |  | X |  | X |  |
Libya ¹ | X | X | X | X | X | X | X | X | X | X |  | X |  | X |  |
Liechtenstein ⁵ | X |  |  |  |  | X |  | X | X |  |  |  |  |  |  |
Lithuania ³ | X |  |  |  |  | X |  | X | X |  |  |  |  |  |  |
Luxembourg ³ | X |  |  |  |  | X |  | X | X |  |  |  |  |  |  |
Macau | X | X | X | X | X | X | X | X | X | X |  | X |  | X |  |
Madagascar | X | X |  | X |  | X | X | X | X | X |  | X |  | X |  |
Malawi | X | X |  | X |  | X | X | X | X | X |  | X |  | X |  |
Malaysia | X | X |  | X |  | X | X | X | X | X |  | X |  | X |  |
Maldives | X | X |  | X |  | X | X | X | X | X |  | X |  | X |  |
Mali | X | X |  | X |  | X | X | X | X | X |  | X |  | X |  |
Malta ² ³ ⁴ | X |  |  |  |  | X | X | X | X | X |  | X |  | X |  |
Marshall Islands | X | X |  | X |  | X | X | X | X | X |  | X |  | X |  |
Mauritania | X | X |  | X |  | X | X | X | X | X |  | X |  | X |  |
Mauritius | X | X |  | X |  | X | X | X | X | X |  | X |  | X |  |
Mexico | X |  |  |  |  | X |  | X | X |  | X | X |  | X |  |
Micronesia (Federated State of) | X | X |  | X |  | X | X | X | X | X |  | X |  | X |  |
Moldova | X | X | X | X |  | X | X | X | X | X |  | X | X |  |  |
Monaco | X | X |  | X |  | X | X | X | X | X |  | X |  | X |  |
Mongolia | X | X | X | X |  | X | X | X | X | X |  | X | X |  |  |
Montenegro | X | X |  | X |  | X | X | X | X | X |  | X | X | X |  |
Morocco | X | X |  | X |  | X | X | X | X | X |  | X |  | X |  |
Mozambique | X | X |  | X |  | X | X | X | X | X |  | X |  | X |  |
Namibia | X | X |  | X |  | X | X | X | X | X |  | X |  | X |  |
Nauru | X | X |  | X |  | X | X | X | X | X |  | X |  | X |  |
Nepal | X | X |  | X |  | X | X | X | X | X |  | X |  | X |  |
Netherlands ³ | X |  |  |  |  | X |  | X | X |  |  |  |  |  |  |
New Zealand ³ | X |  |  |  |  | X |  | X | X |  |  |  |  |  |  |
Nicaragua | X | X |  | X |  | X | X | X | X | X | X | X |  | X |  |
Niger | X | X |  | X |  | X | X | X | X | X |  | X |  | X |  |
Nigeria | X | X |  | X |  | X | X | X | X | X |  | X |  | X |  |
North Macedonia | X | X |  | X |  | X | X | X | X | X |  | X |  | X |  |
Norway ³ | X |  |  |  |  | X |  | X | X |  |  |  |  |  |  |
Oman | X | X | X | X |  | X | X | X | X | X |  | X |  | X |  |
Pakistan ⁸ | X | X | X | X | X | X | X | X | X | X |  | X |  | X |  |
Palau | X | X |  | X |  | X | X | X | X | X |  | X |  | X |  |
Panama | X | X |  | X |  | X | X | X | X | X | X | X |  | X |  |
Papua New Guinea | X | X |  | X |  | X | X | X | X | X |  | X |  | X |  |
Paraguay | X | X |  | X |  | X | X | X | X | X | X | X |  | X |  |
Peru | X | X |  | X |  | X | X | X | X | X | X | X |  | X |  |
Philippines | X | X |  | X |  | X | X | X | X | X |  | X |  | X |  |
Poland ³ | X |  |  |  |  | X |  | X | X |  |  |  |  |  |  |
Portugal ³ | X |  |  |  |  | X |  | X | X |  |  |  |  |  |  |
Qatar | X | X | X | X |  | X | X | X | X | X |  | X |  | X |  |
Romania ³ | X |  |  |  |  | X |  | X | X |  |  |  |  |  |  |
Russia ⁶ | X | X | X | X | X | X | X | X | X | X |  | X | X |  |  |
Rwanda | X | X |  | X |  | X | X | X | X | X |  | X | X | X |  |
St. Kitts and Nevis | X | X |  | X |  | X | X | X | X | X | X | X |  | X |  |
St. Lucia | X | X |  | X |  | X | X | X | X | X | X | X |  | X |  |
St. Vincent and the Grenadines | X | X |  | X |  | X | X | X | X | X | X | X |  | X |  |
Samoa | X | X |  | X |  | X | X | X | X | X |  | X |  | X |  |
San Marino | X | X |  | X |  | X | X | X | X | X |  | X |  | X |  |
Sao Tome and Principe | X | X |  | X |  | X | X | X | X | X |  | X |  | X |  |
Saudi Arabia | X | X | X | X |  | X | X | X | X | X |  | X |  | X |  |
Senegal | X | X |  | X |  | X | X | X | X | X |  | X |  | X |  |
Serbia | X | X |  |  |  | X | X | X | X | X |  | X | X | X |  |
Seycheles | X | X |  | X |  | X | X | X | X | X |  | X |  | X |  |
Sierra Leone | X | X |  | X |  | X | X | X | X | X |  | X |  | X |  |
Singapore | X | X |  | X |  | X | X | X | X | X |  | X |  | X |  |
Sint Maarten (the Dutch two-fifths of the island of Saint Martin) | X | X |  | X |  | X | X | X | X | X |  | X |  | X |  |
Slovakia ³ | X |  |  |  |  | X |  | X | X |  |  |  |  |  |  |
Slovenia ³ | X |  |  |  |  | X |  | X | X |  |  |  |  |  |  |
Solomon Islands | X | X |  | X |  | X | X | X | X | X |  | X |  | X |  |
Somalia ¹ | X | X |  | X |  | X | X | X | X | X |  | X |  | X |  |
South Africa ² ³ ⁴ | X | X |  |  |  | X |  | X | X |  |  | X |  | X |  |
South Sudan, Republic of | X | X |  | X |  | X | X | X | X | X |  | X |  | X |  |
Spain ³ | X |  |  |  |  | X |  | X | X |  |  |  |  |  |  |
Sri Lanka | X | X |  | X |  | X | X | X | X | X |  | X |  | X |  |
Sudan ¹ | X | X |  | X |  | X | X | X | X | X |  | X |  | X |  |
Suriname | X | X |  | X |  | X | X | X | X | X | X | X |  | X |  |
Sweden ³ ⁴ | X |  |  |  |  | X |  | X | X |  |  |  |  |  |  |
Switzerland ³ ⁴ | X |  |  |  |  | X |  | X | X |  |  |  |  |  |  |
Syria | See § 746.9 of the EAR to determine whether a license is required in order to export or reexport to this destination.
Taiwan | X | X | X | X |  | X | X | X | X | X |  | X |  | X |  |
Tajikistan | X | X | X | X |  | X | X | X | X | X |  | X | X |  |  |
Tanzania | X | X |  | X |  | X | X | X | X | X |  | X |  | X |  |
Thailand | X | X |  | X |  | X | X | X | X | X |  | X |  | X |  |
Timor-Leste | X | X |  | X |  | X | X | X | X | X |  | X |  | X |  |
Togo | X | X |  | X |  | X | X | X | X | X |  | X |  | X |  |
Tonga | X | X |  | X |  | X | X | X | X | X |  | X |  | X |  |
Trinidad and Tobago | X | X |  | X |  | X | X | X | X | X | X | X |  | X |  |
Tunisia | X | X |  | X |  | X | X | X | X | X |  | X |  | X |  |
Türkiye | X |  |  |  |  | X |  | X | X |  |  |  |  |  |  |
Turkmenistan | X | X | X | X |  | X | X | X | X | X |  | X | X |  |  |
Tuvalu | X | X |  | X |  | X | X | X | X | X |  | X |  | X |  |
Uganda | X | X |  | X |  | X | X | X | X | X |  | X |  | X |  |
Ukraine ⁹ | X |  |  |  |  | X | X | X | X | X |  | X | X |  |  |
United Arab Emirates | X | X | X | X |  | X | X | X | X | X |  | X |  | X |  |
United Kingdom ¹⁰ | X |  |  |  |  |  |  |  |  |  |  |  |  |  |  |
Uruguay | X | X |  | X |  | X | X | X | X | X | X | X |  | X |  |
Uzbekistan | X | X | X | X |  | X | X | X | X | X |  | X | X |  |  |
Vanuatu | X | X |  | X |  | X | X | X | X | X |  | X |  | X |  |
Vatican City | X | X |  | X |  | X | X | X | X | X |  | X |  | X |  |
Venezuela | X | X | X | X | X | X | X | X | X | X | X | X |  | X |  |
Vietnam | X | X | X | X |  | X | X | X | X | X |  | X | X |  |  |
Western Sahara | X | X |  | X |  | X | X | X | X | X |  | X |  | X |  |
Yemen | X | X | X | X |  | X | X | X | X | X |  | X |  | X |  |
Zambia | X | X |  | X |  | X | X | X | X | X |  | X |  | X |  |
Zimbabwe | X | X |  | X |  | X | X | X | X | X |  | X |  | X |  |
¹ See § 746.1(b) for United Nations Security Council Sanctions under the EAR. See § 746.3 for United Nations Security Council-related license requirements for exports and reexports to Iraq or transfer within Iraq under the EAR, as well as regional stability licensing requirements not included in the Country Chart.
² See § 742.4(a) for special provisions that apply to exports and reexports to these countries of certain thermal imaging cameras.
³ See § 742.6(a)(3) for special provisions that apply to military commodities that are subject to ECCN 0A919.
⁴ See § 742.6(a)(2) and (4)(ii) regarding special provisions for exports and reexports of certain thermal imaging cameras to these countries.
⁵ Refer to Switzerland for licensing requirements for Liechtenstein under the EAR.
⁶ See § 746.5 of the EAR for additional license requirements under the Russian Industry Sector Sanctions for ECCNs 0A998, 1C992, 3A229, 3A231, 3A232, 6A991, 8A992, and 8D999 and items identified in supplement no. 2 to part 746 of the EAR. See § 746.8 of the EAR for Sanctions against Russia and Belarus, including additional license requirements for items listed in any ECCN on the CCL.
⁷ Note that a license is still required for items controlled under ECCNs 6A003.b.4.b and 9A515.e for RS column 2 reasons when destined to India.
⁸ See § 746.6 of the EAR for additional license requirements for exports and reexports to the Crimea region of Ukraine and the so-called Donetsk People's Republic (DNR) and Luhansk People's Republic (LNR) regions of Ukraine and transfers (in-country) within the Crimea, DNR, and LNR regions of Ukraine for all items subject to the EAR, other than food and medicine designated as EAR99 and certain EAR99 or ECCN 5D992.c software for internet-based communications.
⁹ See § 746.6 of the EAR for additional license requirements for exports and reexports to the Crimea region of Ukraine and the so-called Donetsk People's Republic (DNR) and Luhansk People's Republic (LNR) regions of Ukraine and transfers (in-country) within the Crimea, DNR, and LNR regions of Ukraine for all items subject to the EAR, other than food and medicine designated as EAR99 and certain EAR99 or ECCN 5D992.c software for internet-based communications.
¹⁰ A license is required to these destinations for items in the following ECCNs: 0A501 (except for 0A501.y), 0A502 for shotguns with a barrel length less than 18 inches (45.72 cm), 0A504.i, 0A505.a and .x, 0A506, 0A507, 0A508 for semi-automatic shotguns with a barrel length less than 18 inches (45.72 cm), 0A509, 0D501 (except for “software” for commodities in ECCN 0A501.y or “equipment” in ECCN 0B501 for commodities in ECCN 0A501.y), 0D505 for “software” for commodities in ECCN 0A505.a and .x and “equipment” in ECCN 0B505.a and .x, 0E501, 0E504, 0E505 for “technology” for “development,” “production,” operation, installation, maintenance, repair, overhaul, or refurbishing commodities in 0A505.a and .x; for “equipment” for those commodities in 0B505; and for “software” for that “equipment” and those commodities in 0D505.

PART 740—LICENSE EXCEPTIONS

3. The authority citation for 15 CFR part 740 is revised to read as follows:

Authority: 50 U.S.C. 4801-4852; 50 U.S.C. 4601 et seq.; 50 U.S.C. 1701 et seq.; 22 U.S.C. 7201 et seq.; E.O. 13026, 61 FR 58767, 3 CFR, 1996 Comp., p. 228.

4. Amend § 740.2 by removing and reserving paragraph (a)(24).

§ 740.2 Restrictions on all License Exceptions.

* * * * *

(24) [Reserved]

* * * * *

5. Amend § 740.3 by revising paragraph (b) to read as follows:

§ 740.3 Shipments of limited value (LVS).

* * * * *

(b) Eligible destinations. This License Exception is available for all destinations in Country Group B (see supplement no. 1 to part 740), provided that the net value of the commodities included in the same order and controlled under the same ECCN entry on the CCL does not exceed the amount specified in the LVS paragraph for that entry.

* * * * *

§ 740.14 [Amended]

6. Amend § 740.14 by removing paragraph (e)(5).

PART 742—CONTROL POLICY—CCL BASED CONTROLS

7. The authority citation for 15 CFR part 742 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; Sec. 1503, Pub. L. 108-11, 117 Stat. 559; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; Presidential Determination 2003-23, 68 FR 26459, 3 CFR, 2004 Comp., p. 320.

8. Amend § 742.7 by:

a. Revising paragraphs (a)(1) through (5);

b. Adding paragraph (a)(6);

c. Revising paragraph (b)(1); and

d. Removing paragraph (b)(3) and Note 1 to paragraph (b)(3).

The revisions read as follows:

§ 742.7 Crime control and detection.

(a) * * *

(1) Crime control and detection instruments and equipment and related “technology” and “software” identified in the appropriate ECCNs on the CCL under CC Column 1 in the Country Chart column of the “License Requirements” section. A license is required to countries listed in CC Column 1 (Supplement No. 1 to part 738 of the EAR). Items affected by this requirement are identified on the CCL under the following ECCNs: 0A502 (for shotguns with a barrel length less than 24 inches and shotgun “parts” and “components”), 0A504, 0A505.b, 0A508 (for shotguns with a barrel length less than 24 inches and shotgun “parts” and “components”), 0A509.a (for items for ECCN 0A502 or ECCN 0A508), 0A509.d, 0A977, 0A978, 0A979, 0D977, 0E502, 0E505 (“technology” for “development” or for “production” of buckshot shotgun shells controlled under ECCN 0A505.b), 0E977, 1A984, 1A985, 3A980, 3A981, 3D980, 3E980, 4A003 (for fingerprint computers only), 4A980, 4D001 (for fingerprint computers only), 4D980, 4E001 (for fingerprint computers only), 4E980, 6A002 (for police-model infrared viewers only), 6E001 (for police-model infrared viewers only), 6E002 (for police-model infrared viewers only), and 9A980.

(2) Shotguns with a barrel length greater than or equal to 24 inches, identified in ECCN 0A502 or 0A508 on the CCL under CC Column 2 in the Country Chart column of the “License Requirements” section regardless of end user to countries listed in CC Column 2 (supplement no. 1 to part 738 of the EAR).

(3) Shotguns with barrel length greater than or equal to 24 inches, identified in ECCN 0A502 or 0A508 on the CCL under CC Column 3 in the Country Chart column of the “License Requirements” section only if for sale or resale to police or law enforcement entities in countries listed in CC Column 3 (supplement no. 1 to part 738 of the EAR).

(4) Items designed for the execution of human beings as identified in ECCN 0A981 require a license to all destinations including Australia, Canada, and the United Kingdom. Controls for these items appear in each ECCN; a column specific to these controls does not appear in the Country Chart (supplement no. 1 to part 738 of the EAR).

(5) Certain crime control items require a license to all destinations except Canada. These items are identified under ECCNs 0A982, 0A503, and 0E982. Controls for these items appear in each ECCN; a column specific to these controls does not appear in the Country Chart (supplement no. 1 to part 738 of the EAR).

(6) See § 742.11 of the EAR for further information on items controlled under ECCN 0A983, which require a license to all destinations, including Australia, Canada, and the United Kingdom. Controls for these items appear in each ECCN; a column specific to these controls does not appear in the Country Chart (supplement no. 1 to part 738 of the EAR).

(b) * * *

(1) Applications for items controlled under this section will generally be considered favorably on a case-by-case basis, unless there is civil disorder in the country or region or unless there is a risk that the items will be used to violate or abuse human rights. The judicious use of export controls is intended to deter human rights violations and abuses, distance the United States from such violations and abuses, and avoid contributing to civil disorder in a country or region.

* * * * *

9. Amend § 742.17 by revising paragraph (b) to read as follows:

§ 742.17 Exports of firearms to OAS member countries.

* * * * *

(b) Licensing policy. Applications supported by an FC Import Certificate or equivalent official document issued by the government of the importing country for such items will generally be approved, except there is a policy of denial for applications to export items linked to such activities as drug trafficking, terrorism, and transnational organized crime.

* * * * *

Supplement No. 3 to Part 742 [Removed]

10. Remove and reserve supplement no. 3 to part 742.

PART 743—SPECIAL REPORTING AND NOTIFICATION

11. The authority citation for 15 CFR part 748 is revised to read as follows:

Authority: 50 U.S.C. 4801-4852; 50 U.S.C. 4601 et seq.; 50 U.S.C. 1701 et seq.; E.O. 13637, 78 FR 16129, 3 CFR, 2014 Comp., p. 223; 78 FR 16129.

§ 743. 6 [Removed and Reserved]

12. Remove and reserve § 743.6.

PART 748—APPLICATIONS (CLASSIFICATION, ADVISORY, AND LICENSE) AND DOCUMENTATION

13. The authority citation for 15 CFR part 748 is revised to read as follows:

Authority: 50 U.S.C. 4801-4852; 50 U.S.C. 4601 et seq.; 50 U.S.C. 1701 et seq.; E.O. 13026, 61 FR 58767, 3 CFR, 1996 Comp., p. 228.

14. Amend § 748.12 by:

a. Revising the introductory text and paragraphs (a) and (a)(1);

b. Removing and reserving paragraph (a)(2)(ii); and

c. Revising paragraphs (a)(3), (b), (c), and (d).

The revisions read as follows:

§ 748.12 Firearms import certificate or import permit.

License applications for certain firearms and related commodities require support documents in accordance with this section. For destinations that are members of the Organization of American States (OAS), an FC Import Certificate, equivalent official document, or the electronic equivalent document officially issued by the foreign government is required in accordance with paragraphs (a) through (d) of this section. For other destinations that require a firearms import certificate or permit, the firearms import certificate or permit is required in accordance with paragraph (e) of this section.

(a) Requirement to obtain and submit documentation for OAS member states. Unless an exception in § 748.9(c) applies, an FC Import Certificate is required for license applications for firearms and related commodities, regardless of value, that are destined for member countries of the OAS. This requirement is consistent with the OAS Model Regulations described in § 742.17 of the EAR.

(1) Items subject to requirement. Firearms and related commodities are those commodities controlled for “FC Column 1” reasons under 0x5zz ECCNs.

(2) * * *

(ii) [Reserved]

(3) Equivalent official document in place of an FC Import Certificate. For those OAS member countries that have not yet established or implemented an FC Import Certificate procedure, BIS will accept an equivalent official document (e.g., import license or letter of authorization) issued by the government of the importing country as supporting documentation for the export of firearms and related commodities.

(b) Obtaining the document. (1) Applicants must request that the importer (e.g., ultimate consignee or purchaser) obtain the FC Import Certificate or an equivalent official document from the government of the importing country, and that it be issued covering the quantities and types of items that the applicant intends to export. Upon receipt of the FC Import Certificate, its official equivalent, or a copy, the importer must provide the original, official equivalent, or a certified copy to the license applicant.

(2) If the government of the importing country will not issue an FC Import Certificate or its official equivalent, the applicant must supply the information described in paragraphs (c)(1) and (c)(6) through (c)(8) of this section on company letterhead.

(c) Content of the document. The FC Import Certificate or its official equivalent must contain, as applicable, the following information:

(1) Applicant's name and address. The applicant may be either the exporter, supplier, or order party.

(2) FC Import Certificate Identifier/Number.

(3) Name of the country issuing the certificate or unique country code.

(4) Date the document was issued, in international date format (e.g., 24/12/12 for 24 December 2012, or 3/1/99 for 3 January 1999).

(5) Name of the agency issuing the certificate, address, telephone and facsimile numbers, signing officer name, and signature.

(6) Name of the importer, address, telephone and facsimile numbers, country of residence, representative's name if commercial or government body, citizenship, and signature.

(7) Name of the end user(s), if known and different from the importer, address, telephone and facsimile numbers, country of residence, representative's name if commercial (authorized distributor or reseller) or government body, citizenship, and signature. Note that BIS does not require the identification of each end user when the firearms and related commodities will be resold by a distributor or reseller if unknown at the time of export.

(8) Description of the commodities approved for import including a technical description and total quantity of firearms, parts and components, ammunition and parts.

Note 1 to paragraph (c)(8): You must furnish the consignee with a detailed technical description of each commodity to be given to the government for its use in issuing the FC Import Certificate. For example, for shotguns, provide the type, barrel length, overall length, number of shots, the manufacturer's name, and the country of manufacture. For ammunition, provide the caliber, velocity and force, type of bullet, manufacturer's name and country of manufacture.

(9) Expiration date of the FC Import Certificate in international date format (e.g., 24/12/12) or the date the items must be imported, whichever is earlier.

(10) Name of the country of export (i.e., United States).

(11) Additional information. Certain countries may require the tariff classification number, by class, under the Brussels Convention (Harmonized Tariff Code) or the specific technical description of a commodity. For example, shotguns may need to be described in barrel length, overall length, number of shots, manufacturer's name and country of manufacture. The technical description is not the Export Control Classification Number (ECCN).

(d) Procedures for using document with license application—(1) Information necessary for license application. The license application must include the same commodities as those listed on the FC Import Certificate or the equivalent official document.

(2) Alterations. After an FC Import Certificate or equivalent official document is used to support the issuance of a license, no corrections, additions, or alterations may be made on the FC Import Certificate by any person. Any necessary corrections, additions, or alterations should be noted by the applicant in a separate statement on file with the applicant.

(3) Validity period. FC Import Certificates or equivalent official documents issued by an OAS member country will be valid until the expiration date on the document or for a period of four years, whichever is shorter.

Note 2 to paragraph (d)(3): Applicants for license applications for exports and reexports to an OAS member country must submit the initial FC Import Certificate with the license application. All BIS licenses for ECCNs 0A501, 0A505, 0A506, 0A507, and 0A509 except for 0A509.a for items for ECCN 0A502 or ECCN 0A508, and 0A509.d commodities will include a standard rider that requires that the applicant/exporter must have a current FC Import Certificate on file prior to export. While FC Import Certificates are usually valid for 1 year, BIS licenses are generally valid for 4 years. The text of the standard rider will generally be as follows: “A current, complete, accurate and valid Firearms Convention (FC) Import Certificate (or equivalent official document) shall be obtained, if required by the government of the importing country, from the Ultimate Consignee and maintained in the exporter's file prior to any export of the item(s) listed on this license. A copy shall be provided to the U.S. Government upon request. (Refer to § 742.17(b) of the EAR for guidance.)”

* * * * *

15. Amend supplement no. 2 to part 748 by revising paragraph (aa) to read as follows:

Supplement No. 2 to Part 748—Unique Application and Submission Requirements

* * * * *

(aa) “600 Series Major Defense Equipment.” For license applications that require prior notifications to Congress of exports of “600 series major defense equipment” pursuant to § 743.5, the exporter must include a copy of the signed contract (including a statement of the value of the “600 Series Major Defense Equipment” to be exported under the contract). (See § 743.5(d) of the EAR)

PART 750—APPLICATION PROCESSING, ISSUANCE, AND DENIAL

16. The authority citation for 15 CFR part 750 is revised to read as follows:

Authority: 50 U.S.C. 4801-4852; 50 U.S.C. 4601 et seq.; 50 U.S.C. 1701 et seq.; Sec. 1503, Pub. L. 108-11, 117 Stat. 559; E.O. 13026, 61 FR 58767, 3 CFR, 1996 Comp., p. 228; E.O. 13637, 78 FR 16129, 3 CFR, 2013 Comp., p. 223; Presidential Determination 2003-23, 68 FR 26459, 3 CFR, 2004 Comp., p. 320.

§ 750.4 [Amended]

17. Amend § 750.4 by removing paragraph (d)(2)(v).

18. Amend § 750.7 by revising paragraph (g) introductory text to read as follows:

§ 750.7 Issuance of licenses.

* * * * *

(g) License validity period. Licenses involving the export or reexport of items will generally have a four-year validity period, unless a different validity period has been requested and specifically approved by BIS or is otherwise specified on the license at the time that it is issued. Exceptions from the four-year validity period include license applications for items controlled for short supply reasons, which will be limited to a one-year validity period and license applications reviewed and approved as an “emergency” (see § 748.4(h) of the EAR). Emergency licenses will expire no later than the last day of the calendar month following the month in which the emergency license is issued. The expiration date will be clearly stated on the face of the license. If the expiration date falls on a legal holiday (Federal or State), the validity period is automatically extended to midnight of the first business day following the expiration date.

* * * * *

PART 758—EXPORT CLEARANCE REQUIREMENTS AND AUTHORITIES

19. The authority citation for 15 CFR part 758 is revised to read as follows:

Authority: 50 U.S.C. 4801-4852; 50 U.S.C. 4601 et seq.; 50 U.S.C. 1701 et seq.

20. Amend § 758.1 by revising paragraphs (g)(4)(ii) to read as follows:

§ 758.1 The Electronic Export Information (EEI) filing to the Automated Export System (AES).

* * * * *

(g) * * *

(4) * * *

(ii) Identifying firearms by “items” level classification or other control descriptor in the EEI filing in AES. For any export of items controlled under ECCNs 0A501.a or .b, 0A506, 0A507, or shotguns with a barrel length less than 18 inches controlled under ECCNs 0A502 or 0A508.a or .b, in addition to any other required data for the associated EEI filing, the exporter must include the items paragraph classification or other control descriptor as specified in paragraphs (g)(4)(ii)(A) through (E) for ECCNs 0A501, 0A502, 0A506, 0A507, or 0A508, as applicable, as the first text to appear in the Commodity description block in the EEI filing in AES. (See § 743.4 of the EAR for the use of this information for ECCNs 0A501.a or .b, 0A506.a or .b, and 0A507.a, or .b for conventional arms reporting).

* * * * *

PART 772—DEFINITIONS OF TERMS

21. The authority citation for 15 CFR part 772 is revised to read as follows:

Authority: 50 U.S.C. 4801-4852; 50 U.S.C. 4601 et seq.; 50 U.S.C. 1701 et seq.

§ 772.1 [Amended]

22. Amend § 772.1 by removing the definition for “CARICOM”.

PART 774—THE COMMERCE CONTROL LIST

23. The authority citation for 15 CFR part 774 is revised to read as follows:

Authority: 50 U.S.C. 4801-4852; 50 U.S.C. 4601 et seq.; 50 U.S.C. 1701 et seq.; 10 U.S.C. 8720; 10 U.S.C. 8730(e); 22 U.S.C. 287c, 22 U.S.C. 3201 et seq.; 22 U.S.C. 6004; 42 U.S.C. 2139a; 15 U.S.C. 1824; 50 U.S.C. 4305; 22 U.S.C. 7201 et seq.; 22 U.S.C. 7210; E.O. 13026, 61 FR 58767, 3 CFR, 1996 Comp., p. 228.

24. Amend supplement no. 1 to part 774 by revising the Category 0 heading and ECCNs 0A501, 0A502, 0A504, 0A505, 0A506, 0A507, 0A508, 0A509, 0D501, 0D505, 0E501, 0E502, 0E504, and 0E505 to read as follows:

Supplement No. 1 to Part 774—The Commerce Control List Category 0—Nuclear Materials, Facilities, and Equipment, Firearms, Ammunition [and Miscellaneous Items]

A. “End Items,” “Equipment,” “Accessories,” “Attachments,” “Parts,” “Components,” and “Systems”

* * * * *

0A501 Firearms (except 0A502 shotguns, 0A506 semi-automatic rifles, 0A507 semi-automatic pistols, and 0A508 semi-automatic shotguns) and related commodities (except semi-automatic related commodities enumerated or otherwise described in Eccn 0A509 for Eccns 0A506, 0A507, or 0A508) as follows (see List of Items controlled).

License Requirements

Reason for Control: NS, RS, FC, UN, AT

Control(s) | Country chart (see Supp. No. 1 to part 738)
NS applies to entire entry except 0A501.y | NS Column 1.
RS applies to entire entry except 0A501.y | RS Column 1.
FC applies to entire entry except 0A501.y | FC Column 1.
UN applies to entire entry | See § 746.1 of the EAR for UN controls.
AT applies to entire entry | AT Column 1.

License Requirement Note: In addition to using the Commerce Country Chart to determine license requirements, a license is required for exports and reexports of ECCN 0A501.y.7 firearms to the People's Republic of China.

List Based License Exceptions (See Part 740 for a Description of All License Exceptions)

LVS: $500 for 0A501.c, .d, and .x.

$500 for 0A501.c, .d, .e, and .x if the ultimate destination is Canada.

GBS: N/A

Special Conditions for STA

License Exception STA may not be used for ECCN 0A501.a, .b, .c, .d, or .e, to any of the destinations listed in Country Group A:5 or A:6 (See supplement no.1 to part 740 of the EAR). License Exception STA may not be used for any item in this entry to any of the destinations listed in Country Group A:6 (See Supplement No.1 to part 740 of the EAR).

List of Items Controlled

Related Controls: (1) See USML Category I for firearms that are fully automatic, and certain related parts, components, accessories, and attachments (including magazines with a capacity of greater than 50 rounds). (2) See ECCN 0A506 for semi-automatic rifles. (3) See ECCN 0A507 for semi-automatic pistols. (4) See ECCN 0A508 for semi-automatic shotguns and ECCN 0A502 for certain “parts” and “components” for semi-automatic shotguns that are not controlled by 0A509.a or .c. (5) See ECCN 0A509 for enumerated or otherwise described “parts,” “components,” devices, “accessories,” and “attachments” for ECCNs 0A506, 0A507, and 0A508. (6) See .d, .x, and .y of this entry for other “parts,” “components,” “accessories,” and “attachments” “specially designed” for 0A506 and 0A507, or 0A508. (7) See ECCN 0A502 for non-automatic shotguns and their “parts” and “components” that are subject to the EAR and for certain “parts” and “components” for semi-automatic shotguns that are not controlled by 0A509.a or .c. (8) See ECCN 0A504 and USML Category XII for controls on optical sighting devices.

Related Definitions: N/A.

Items:

a. Non-automatic and non-semi-automatic firearms equal to .50 caliber (12.7 mm) or less.

Note 1 to paragraph 0A501.a: `Combination pistols' are controlled under ECCN 0A501.a. A `combination pistol' (a.k.a., a combination gun) has at least one rifled barrel and at least one smoothbore barrel (generally a shotgun style barrel).

Note 2 to paragraph 0A501.a: Semi-automatic firearms equal to .50 caliber (12.7 mm) or less are controlled under ECCNs 0A506 and 0A507.

Technical Note to 0A501.a: Firearms described in 0A501.a include those chambered for the .50 BMG cartridge.

b. Non-automatic and non-semi-automatic rifles, carbines, revolvers or pistols with a caliber greater than .50 inches (12.7 mm) but less than or equal to .72 inches (18.0 mm).

c. The following types of “parts” and “components” if “specially designed” for a commodity controlled by paragraph .a or .b of this entry or ECCNs 0A506 or 0A507, or USML Category I (unless otherwise enumerated or elsewhere specified on the USML or controlled under ECCN 0A509): Barrels, cylinders, barrel extensions, mounting blocks (trunnions), bolts, bolt carriers, operating rods, gas pistons, trigger housings, triggers, hammers/striker, sears, disconnectors, pistol grips that contain fire control “parts” or “components” (e.g., triggers, hammers/striker, sears, disconnectors) and buttstocks that contain fire control “parts” or “components.”

Technical Note to 0A501.c: Barrel blanks that have reached a stage in manufacturing in which they are either chambered or rifled are controlled by 0A501.c.

d. Detachable magazines with a capacity of 17 to 50 rounds “specially designed” for a commodity controlled by paragraph .a or .b of this entry or controlled by ECCNs 0A506 or 0A507.

Note 3 to paragraph 0A501.d Magazines with a capacity of 16 rounds or less are controlled under 0A501.x; for magazines with a capacity greater than 50 rounds, see USML Category I. Magazines that hold only blank ammunition controlled under 0A505.d are controlled under 0A501.d or 0A501.x, depending on the magazine's capacity.

e. Receivers (frames) and “complete breech mechanisms,” including castings, forgings, stampings, or machined items thereof, “specially designed” for a commodity controlled by paragraph .a or .b of this entry.

Note 4 to 0A501.e: Frames (receivers) under 0A501.e refers to any “part” or “component” of the firearm that has or is customarily marked with a serial number when required by law. This paragraph 0A501.e is synonymous with a “part” or “component” that is regulated by the Bureau of Alcohol, Tobacco, Firearms and Explosives (see 18 U.S.C. 921(a)(3); 27 CFR parts 447, 478, and 479,) as a firearm.

Note 5 to 0A501.e: Frames (receivers) “specially designed” for semi-automatic firearms are controlled under ECCN 0A509.b or .c.

f. through w. [Reserved]

x. “Parts” and “components” that are “specially designed” for a commodity classified under paragraphs .a through .c of this entry, a commodity classified under ECCNs 0A506 or 0A507, or the USML and not elsewhere specified on the USML or CCL or controlled under ECCN 0A509.

y. Specific “parts,” “components,” “accessories” and “attachments” “specially designed” for a commodity subject to control in this ECCN, ECCNs 0A506, 0A507, or common to a defense article in USML Category I and not elsewhere specified in the USML or CCL as follows, and “parts,” “components,” “accessories,” and “attachments” “specially designed” therefor.

y.1. Stocks (including adjustable, collapsible, blades and braces), grips, handguards, or forends, that do not contain any fire control “parts” or “components” (e.g., triggers, hammers/striker, sears, disconnectors);

y.2 through y.5. [Reserved]

y.6. Bayonets; and

y.7. Firearms manufactured from 1890 to 1898 and reproductions thereof.

Technical Note 1 to 0A501: ECCN 0A501 includes “parts” and “components” that are not “subject to the ITAR” even though they are common to firearms described in ECCN 0A501 and to those firearms “subject to the ITAR.”

Technical Note 2 to 0A501: A receiver with any other controlled “part” or “component” ( e.g., a barrel (0A501.c), or trigger guard (0A501.x), or stock (0A501.y.1)) is still controlled under 0A501.e.

Technical Note 3 to 0A501: Blank firing adapters, which are attachments to semi-automatic and automatic firearms used in conjunction with blank cartridges for safety and functional reasons and used for firearm training purposes by police, military, sporting shooters, as well as in the movie industry, are designated as EAR99.

Note 6 to 0A501: Antique firearms (i.e., those manufactured before 1890) and reproductions thereof, muzzle loading and black powder firearms except those designs based on centerfire weapons of a post 1937 design, BB guns, pellet rifles, paint ball, and all other air rifles are EAR99 commodities.

Note 7 to 0A501: Muzzle loading and black powder firearms with a caliber less than 20 mm that were manufactured post 1937 that are used for hunting or sporting purposes that were not “specially designed” for military use and are not described on the USML nor controlled as shotguns under ECCN 0A502 are EAR99 commodities.

Note 8 to 0A501: Scope mounts or accessory rails, iron sights, sling swivels, and butt plates or recoil pads that are subject to the EAR are designated as EAR99. These commodities have been determined to no longer warrant being “specially designed” for purposes of ECCN 0A501.

Note 9 to 0A501: A kit, including a replacement or repair kit, of firearms “parts” or “components” customarily sold and exported together takes on the classification of the most restrictive “part” or “component” that is included in the kit. For example, a kit containing 0A501.y and .x “parts,” is controlled as a 0A501.x kit because the .x “part” is the most restrictive “part” included in the kit. A complete 0A501 firearm disassembled in a kit form is controlled as a firearm under 0A501.a, .b, or .y.7.

0A502 Shotguns; shotguns “parts” and “components,” consisting of complete trigger mechanisms; magazines and magazine extension tubes; “complete breech mechanisms;” except: semi-automatic shotguns controlled under Eccn 0A508; certain “parts,” components,” devices, “accessories,” and “attachments” for semi-automatic shotguns controlled under Eccn 0A509; equipment used to slaughter domestic animals or used exclusively to treat or tranquilize animals; and arms designed solely for signal, flare, or saluting use.

License Requirements

Reason for Control: RS, FC, CC, UN, AT, NS

Control(s) | Country chart (see Supp. No. 1 to part 738)
NS applies to shotguns with a barrel length less than 18 inches (45.72 cm) | NS Column 1.
RS applies to shotguns with a barrel length less than 18 inches (45.72 cm) | RS Column 1.
FC applies to entire entry | FC Column 1.
CC applies to shotguns with a barrel length less than 24 in. (60.96 cm) and shotgun “components” controlled by this entry regardless of end user | CC Column 1.
CC applies to shotguns with a barrel length greater than or equal to 24 in. (60.96 cm), regardless of end user | CC Column 2.
CC applies to shotguns with a barrel length greater than or equal to 24 in. (60.96 cm) if for sale or resale to police or law enforcement | CC Column 3.
UN applies to entire entry | See § 746.1(b) of the EAR for UN controls.
AT applies to shotguns with a barrel length less than 18 inches (45.72 cm) | AT Column 1.

List Based License Exceptions (See Part 740 for a Description of All License Exceptions)

LVS: $500 for 0A502 shotgun “parts” and “components,” consisting of complete trigger mechanisms; magazines and magazine extension tubes. $500 for 0A502 shotgun “parts” and “components,” consisting of complete trigger mechanisms; magazines and magazine extension tubes, “complete breech mechanisms” if the ultimate destination is Canada.

GBS: N/A

Special Conditions for STA

License Exception STA may not be used for any shotguns with barrel length less than 18 inches controlled in 0A502, to any of the destinations listed in Country Group A:5 or A:6 (See supplement no.1 to part 740 of the EAR).

List of Items Controlled

Related Controls: (1) See USML Category I for shotguns that are fully automatic. (2) See ECCN 0A508 for semi-automatic shotguns. (3) See ECCN 0A509 for enumerated or otherwise described “parts,” “components,” devices, “accessories,” and “attachments” for ECCN 0A508. (4) See 0A501.d, .x, and .y for other “parts,” “components,” “accessories,” and “attachments” “specially designed” for 0A508. (5) See ECCNs 0A501 for non-semi-automatic firearms, 0A506 for semi-automatic rifles, and 0A507 for semi-automatic pistols.

Related Definitions: N/A.

Items: The list of items controlled is contained in the ECCN heading.

Note 1 to 0A502: Shotguns made in or before 1898 are considered antique shotguns and designated as EAR99.

Technical Note: Non-automatic and non-semi-automatic shot pistols or shotguns that have had the shoulder stock removed and a pistol grip attached are controlled by ECCN 0A502. Non-automatic and non-semi-automatic slug guns are also controlled under ECCN 0A502.

* * * * *

0A504 Optical sighting devices for firearms (including shotguns controlled by 0A502); and “components” as follows (see List of Items Controlled).

License Requirements

Reason for Control: FC, RS, CC, UN

Control(s) | Country chart (see Supp. No. 1 to part 738)
RS applies to paragraph .i | RS Column 1.
FC applies to paragraphs .a, .b, .c, .d, .e, .g, and .i of this entry | FC Column 1.
CC applies to entire entry | CC Column 1.
UN applies to entire entry | See § 746.1(b) of the EAR for UN controls.

List Based License Exceptions (See Part 740 for a Description of All License Exceptions).

LVS: $500 for 0A504.g.

GBS: N/A

List of Items Controlled

Related Controls: (1) See USML Category XII(c) for sighting devices using second generation image intensifier tubes having luminous sensitivity greater than 350 µA/lm, or third generation or higher image intensifier tubes, that are “subject to the ITAR.” (2) See USML Category XII(b) for laser aiming or laser illumination systems “subject to the ITAR.” (3) Section 744.9 of the EAR imposes a license requirement on certain commodities described in 0A504 if being exported, reexported, or transferred (in-country) for use by a military end user or for incorporation into an item controlled by ECCN 0A919.

Related Definitions: N/A

Items:

a. Telescopic sights.

b. Holographic sights.

c. Reflex or “red dot” sights.

d. Reticle sights.

e. Other sighting devices that contain optical elements.

f. Laser aiming devices or laser illuminators “specially designed” for use on firearms, and having an operational wavelength exceeding 400 nm but not exceeding 710 nm.

Note 1 to 0A504.f: 0A504.f does not control laser boresighting devices that must be placed in the bore or chamber to provide a reference for aligning the firearms sights.

g. Lenses, other optical elements and adjustment mechanisms for articles in paragraphs .a, .b, .c, .d, .e, or .i.

h. [Reserved]

i. Riflescopes that were not “subject to the EAR” as of March 8, 2020 and are “specially designed” for use in firearms that are “subject to the ITAR.”

Note 2 to paragraph i: For purpose of the application of “specially designed” for the riflescopes controlled under 0A504.i, paragraph (a)(1) of the definition of “specially designed” in § 772.1 of the EAR is what is used to determine whether the riflescope is “specially designed.”

0A505 Ammunition as follows (see List of Items Controlled).

License Requirements

Reason for Control: NS, RS, FC, CC, UN, AT

Control(s) | Country chart (see Supp. No. 1 to part 738)
NS applies to 0A505.a and .x | NS Column 1.
RS applies to 0A505.a and .x | RS Column 1.
FC applies to entire entry except 0A505.d | FC Column 1.
CC applies to 0A505.b | CC Column 1.
UN applies to entire entry | See § 746.1 of the EAR for UN controls.
AT applies to 0A505.a, .d, and .x | AT Column 1.
AT applies to 0A505.c | A license is required for items controlled by paragraph .c of this entry to North Korea for anti-terrorism reasons. The Commerce Country Chart is not designed to determine AT licensing requirements for this entry. See § 742.19 of the EAR for additional information.

List Based License Exceptions (See Part 740 for a Description of All License Exceptions)

LVS: $500 for items in 0A505.x, except $3,000 for items in 0A505.x that, immediately prior to March 9, 2020, were classified under 0A018.b. (i.e., “Specially designed” components and parts for ammunition, except cartridge cases, powder bags, bullets, jackets, cores, shells, projectiles, boosters, fuses and components, primers, and other detonating devices and ammunition belting and linking machines (all of which are “subject to the ITAR”). (See 22 CFR parts 120 through 130)).

GBS: N/A

Special Conditions for STA

License Exception STA may not be used for ECCN 0A505, to any of the destinations listed in Country Group A:6 (See supplement no.1 to part 740 of the EAR).

List of Items Controlled

Related Controls: (1) See USML Category III for ammunition for modern heavy weapons such as howitzers, artillery, cannon, mortars and recoilless rifles as well as inherently military ammunition types such as ammunition preassembled into links or belts, caseless ammunition, tracer ammunition, ammunition with a depleted uranium projectile or a projectile with a hardened tip or core and ammunition with an explosive projectile. (2) Percussion caps, and lead balls and bullets, for use with muzzle-loading firearms are EAR99 items. (3) See USML Category III for shotgun projectiles that are flechettes, incendiary, tracer, or explosive.

Related Definitions: `Marking rounds' are non-lethal, typically used for training purposes, and contain a dye or paint in a capsule that is not a chemical irritant.

Items:

a. Ammunition for firearms controlled by ECCNs 0A501, 0A506, or 0A507 or USML Category I and not enumerated in paragraph .b, .c, or .d of this entry or described in USML Category III.

b. Buckshot (No. 4 .24” diameter and larger, any material) shotgun shells and shotgun shells that contain only buckshot, or are for the dispersion of chemical irritants.

c. Shotgun shells (including less than lethal rounds) that do not contain buckshot; and “specially designed” “parts” and “components” of shotgun shells.

d. Blank ammunition for firearms controlled by ECCNs 0A501, 0A502, 0A506, 0A507, or 0A508 and not described in USML Category III.

Technical Note to 0A505.d: Includes `marking rounds' that have paint/dye as the projectile.

e. through w. [Reserved]

x. “Parts” and “components” that are “specially designed” for a commodity subject to control in this ECCN or a defense article in USML Category III and not elsewhere specified on the USML or the CCL.

Note 1 to 0A505.x: The controls on “parts” and “components” in this entry include Berdan and boxer primers, metallic cartridge cases, and standard metallic projectiles such as full metal jacket, lead core, copper projectiles, and frangible projectiles.

Note 2 to 0A505: Metal shot smaller than No. 4 Buckshot, empty and unprimed shotgun shells, shotgun wads, smokeless gunpowder, `dummy rounds' and `drill rounds' (unless linked or belted), not incorporating a lethal or non-lethal projectile(s) are designated EAR99. A `dummy round' or `drill round' is a round that is completely inert, (i.e., contains no primer, propellant, or explosive charge). It is typically used to check weapon function and for crew training.

Note 3 to 0A505: Shotgun shells that contain two or more balls/shot larger than .24-inch are controlled under 0A505.b.

0A506 Semi-Automatic Rifles as follows (see List of Items Controlled).

License Requirements

Reason for Control: NS, RS, FC, UN, AT

Control(s) | Country chart (See Supp. No. 1 to part 738)
NS applies to entire entry | NS Column 1.
RS applies to entire entry | RS Column 1.
FC applies to entire entry | FC Column 1.
UN applies to entire entry | See § 746.1 of the EAR for UN controls.
AT applies to entire entry | AT Column 1.

List Based License Exceptions (See Part 740 for a Description of All License Exceptions)

LVS: N/A

GBS: N/A

Special Conditions for STA

License Exception STA may not be used for ECCN 0A506, to any of the destinations listed in Country Group A:5 or A:6 (See supplement no.1 to part 740 of the EAR).

List of Items Controlled

Related Controls: (1) See USML Category I for firearms that are fully automatic, and magazines with a capacity of greater than 50 rounds. (2) See ECCN 0A507 for semi-automatic pistols, excluding pistols built with, e.g., AR- or AK-style receivers (frames), which are controlled under ECCN 0A506. (3) See ECCN 0A508 for semi-automatic shotguns and ECCN 0A502 for certain “parts” and “components” for semi-automatic shotguns that are not controlled by 0A509.a or .c. (4) See ECCN 0A509 for enumerated or otherwise described “parts,” “components,” devices, “accessories,” and “attachments” for ECCNs 0A506, 0A507, and 0A508. (5) See 0A501.c, .d, .x, and .y for other “parts,” “components,” “accessories,” and “attachments” “specially designed” for 0A506 and 0A507, or 0A508. (6) See ECCN 0A501 for non-semi-automatic firearms (except 0A502 shotguns) and related commodities that are subject to the EAR. (7) See ECCN 0A502 for non-automatic shotguns and their “parts” and “components” that are subject to the EAR and certain “parts” and “components” for semi-automatic shotguns that are not controlled by 0A509.a or .c. (8) See ECCN 0A504 and USML Category XII for controls on optical sighting devices.

Related Definitions: N/A

Items:

a. Semi-automatic centerfire (non-rimfire) rifles equal to .50 caliber (12.7 mm) or less.

b. Semi-automatic rimfire rifles equal to .50 caliber (12.7 mm) or less.

Note 1 to 0A506.a and .b: “Parts” and “components” that are “specially designed” for a commodity classified under .a or .b of this entry, except those controlled under ECCN 0A509, are controlled under ECCN 0A501.c, .d, .x, or .y.

Technical Note 1 to 0A506: Firearms described in 0A506 include those chambered for the .50 BMG cartridge.

Technical Note 2 to 0A506: Firearms described in 0A506 include pistols built with, e.g., AR- or AK-style receivers (frames).

0A507 Semi-Automatic Pistols as follows (see List of Items Controlled)

License Requirements

Reason for Control: NS, RS, FC, UN, AT

Control(s) | Country chart (see Supp. No. 1 to part 738)
NS applies to entire entry | NS Column 1.
RS applies to entire entry | RS Column 1.
FC applies to entire entry | FC Column 1.
UN applies to entire entry | See § 746.1 of the EAR for UN controls.
AT applies to entire entry | AT Column 1.

List Based License Exceptions (See Part 740 for a Description of All License Exceptions)

LVS: N/A

GBS: N/A

Special Conditions for STA

License Exception STA may not be used for ECCN 0A507, to any of the destinations listed in Country Group A:5 or A:6 (See supplement no.1 to part 740 of the EAR).

List of Items Controlled

Related Controls: (1) See USML Category I for firearms that are fully automatic, and magazines with a capacity of greater than 50 rounds. (2) See ECCN 0A506 for semi-automatic rifles. (3) See ECCN 0A508 for semi-automatic shotguns and ECCN 0A502 for certain “parts” and “components” for semi-automatic shotguns that are not controlled by 0A509.a or .c. (4) See ECCN 0A509 for enumerated or otherwise described “parts,” “components,” devices, “accessories,” and “attachments” for ECCNs 0A506, 0A507, and 0A508. (5) See ECCN 0A501.c, .d, .x, and .y for other “parts,” “components,” “accessories,” and “attachments” “specially designed” for 0A506 and 0A507, or 0A508. (6) See ECCN 0A501 for non-semi-automatic firearms (except 0A502 shotguns) and related commodities that are subject to the EAR. (7) See ECCN 0A502 for non-automatic shotguns and their “parts” and “components” that are subject to the EAR and certain “parts” and “components” for semi-automatic shotguns that are not controlled by 0A509.a or .c. (8) See ECCN 0A504 and USML Category XII for controls on optical sighting devices.

Related Definitions: N/A

Items:

a. Semi-automatic centerfire (non-rimfire) pistols equal to .50 caliber (12.7 mm) or less.

b. Semi-automatic rimfire pistols equal to .50 caliber (12.7 mm) or less.

Note 1 to 0A507.a and .b: “Parts” and “components” that are “specially designed” for a commodity classified under .a or .b of this entry, except those controlled under ECCN 0A509, are controlled under ECCN 0A501.c, .d, .x, or .y.

Note 2 to 0A507: Firearms, including pistols, built with, e.g., AR- or AK-style receivers (frames) are controlled under ECCN 0A506.

Technical Note to 0A507: Firearms described in 0A507 includes those chambered for the .50 BMG cartridge, including revolvers, or that may be developed to fire .50 BMG cartridges.

0A508 Semi-Automatic Shotguns as follows (see List of Items Controlled).

License Requirements

Reason for Control: NS, RS, FC, CC, UN, AT

Control(s) | Country chart (see Supp. No. 1 to part 738)
NS applies to semi-automatic shotguns with a barrel length less than 18 inches (45.72 cm) | NS Column 1.
RS applies to semi-automatic shotguns with a barrel length less than 18 inches (45.72 cm) | RS Column 1.
FC applies to entire entry | FC Column 1.
CC applies to shotguns with a barrel length less than 24 in. (60.96 cm) and shotgun “components” controlled by this entry regardless of end user | CC Column 1.
CC applies to shotguns with a barrel length greater than or equal to 24 in. (60.96 cm), regardless of end user | CC Column 2.
CC applies to shotguns with a barrel length greater than or equal to 24 in. (60.96 cm) if for sale or resale to police or law enforcement | CC Column 3.
UN applies to entire entry | See § 746.1 of the EAR for UN controls.
AT applies to semi-automatic shotguns with a barrel length less than 18 inches (45.72 cm) | AT Column 1.

List Based License Exceptions (See Part 740 for a Description of All License Exceptions)

LVS: N/A

GBS: N/A

Special Conditions for STA

License Exception STA may not be used for any shotguns with barrel length less than 18 inches controlled in 0A508, to any of the destinations listed in Country Group A:5 or A:6 (See supplement no.1 to part 740 of the EAR).

List of Items Controlled

Related Controls: (1) See USML Category I for shotguns that are fully automatic. (2) See ECCN 0A502 for non-semi-automatic shotguns. (3) See ECCN 0A509 for enumerated or otherwise described “parts,” “components,” devices, “accessories,” and “attachments” for ECCN 0A508. (4) See 0A501.d, .x, and .y for other “parts,” “components,” “accessories,” and “attachments” “specially designed” for 0A508. (5) See ECCNs 0A501 for non-semi-automatic firearms, 0A506 for semi-automatic rifles, and 0A507 for semi-automatic pistols.

Related Definitions: N/A

Items:

a. Semi-automatic centerfire (non-rimfire) shotguns.

b. Semi-automatic rimfire shotguns.

0A509 Certain “parts,” “components,” devices, “accessories,” and “attachments” for items controlled under ECCNs 0A506, 0A507, and 0A508 as follows (see List of Items Controlled).

License Requirements

Reason for Control: NS, RS, FC, CC, UN, AT

Control(s) | Country chart (see Supp. No. 1 to part 738)
NS applies to entire entry except 0A509.a for items for ECCN 0A502 or ECCN 0A508, and 0A509.d | NS Column 1.
RS applies to entire entry except 0A509.a for items for ECCN 0A502 or ECCN 0A508, and 0A509.d | RS Column 1.
FC applies to entire entry | FC Column 1.
CC applies to 0A509.a for items for ECCN 0A502 or ECCN 0A508, and 0A509.d | CC Column 1.
UN applies to entire entry | See § 746.1 of the EAR for UN controls.
AT applies to entire entry except 0A509.a for items for ECCN 0A502 or ECCN 0A508, and 0A509.d | AT Column 1.

List Based License Exceptions (See Part 740 for a Description of All License Exceptions)

LVS: $500 for 0A509.a, $500 for 0A509.b, .c, and .d if the ultimate destination is Canada

GBS: N/A

Special Conditions for STA

License Exception STA may not be used for ECCN 0A509, except for 0A509.a for items for ECCN 0A502 or ECCN 0A508, and 0A509.d, to any of the destinations listed in Country Group A:5 or A:6 (See supplement no.1 to part 740 of the EAR).

List of Items Controlled

Related Controls: (1) See USML Category I for firearms that are fully automatic, and magazines with a capacity of greater than 50 rounds. (2) See ECCN 0A506 for semi-automatic rifles. (3) See ECCN 0A507 for semi-automatic pistols. (4) See ECCN 0A508 for semi-automatic shotguns and ECCN 0A502 for certain “parts” and “components” for semi-automatic shotguns that are not controlled by .a or .c of this entry. (5) See ECCN 0A501.c, .d, .x, and .y for other “parts,” “components,” “accessories,” and “attachments” “specially designed” for 0A506 and 0A507, or 0A508. (6) See ECCN 0A501 for non-semi-automatic firearms (except 0A502 shotguns) and related commodities that are subject to the EAR. (7) See ECCN 0A502 for non-automatic shotguns and their “parts” and “components” that are subject to the EAR and certain “parts” and “components” for semi-automatic shotguns that are not controlled by .a or .d of this entry. (8) See ECCN 0A504 and USML Category XII for controls on optical sighting devices. (9) See USML Category I for similar items.

Related Definitions: N/A

Items:

a. Any “part,” “component,” device, “attachment,” or “accessory” not elsewhere specified on the USML that is designed or functions to convert a non-semi-automatic firearm controlled by 0A501 or 0A502 to semi-automatic or to accelerate the rate of fire of a semi-automatic firearm controlled by 0A506, 0A507, or 0A508.

b. Receivers (frames), including castings, forgings, stampings, or machined items thereof, “specially designed” for an item controlled by ECCN 0A506.

c. Receivers (frames), including castings, forgings, stampings, or machined items thereof, “specially designed” for an item controlled by ECCN 0A507.

d. Receivers (frames) and “specially designed” “complete breech mechanisms” for a commodity controlled by ECCN 0A508.

Note 1 to 0A509.b and .c: Receivers (frames) under 0A509.b and .c refers to any “part” or “component” of the firearm that has or is customarily marked with a serial number when required by law. Paragraph 0A509.b and .c are synonymous with a “part” or “component” that is regulated by the Bureau of Alcohol, Tobacco, Firearms and Explosives (see 18 U.S.C. 921(a)(3); 27 CFR parts 447, 478, and 479,) as a firearm. For 0A509.c, receivers (frames) includes chassis “components” that serve as the legal firearm ( i.e., with modern pistols, the chassis itself is the serialized firearm).

* * * * *

0D501 “Software” “specially designed” for the “development,” “production,” operation, or maintenance of commodities controlled by 0A501, 0A506, 0A507, 0A509 or 0B501.

License Requirements

Reason for Control: NS, RS, UN, AT

Control(s) | Country chart (see Supp. No. 1 to part 738)
NS applies to entire entry except “software” for commodities in ECCN 0A501.y or equipment in ECCN 0B501 for commodities in ECCN 0A501.y | NS Column 1.
RS applies to entire entry except “software” for commodities in ECCN 0A501.y or equipment in ECCN 0B501 for commodities in ECCN 0A501.y | RS Column 1.
UN applies to entire entry | See § 746.1 of the EAR for UN controls.
AT applies to entire entry | AT Column 1.

List Based License Exceptions (See Part 740 for a Description of All License Exceptions)

TSR: N/A

Special Conditions for STA

License Exception STA may not be used for any “software” in ECCN 0D501, to any of the destinations listed in Country Group A:6 (See supplement no.1 to part 740 of the EAR).

List of Items Controlled

Related Controls: See USML Category I for “software” directly related to articles described in USML Category I.

Related Definitions: N/A

Items: The list of items controlled is contained in this ECCN heading.

* * * * *

0D505 “Software” “specially designed” for the “development,” “production,” operation, or maintenance of commodities controlled by 0A505 or 0B505.

License Requirements

Reason for Control: NS, RS, UN, AT

Control(s) | Country chart (see Supp. No. 1 to part 738)
NS applies to “software” for commodities in ECCN 0A505.a and .x and equipment in ECCN 0B505.a .and .x | NS Column 1.
RS applies to “software” for commodities in ECCN 0A505.a and .x and equipment in ECCN 0B505.a and .x | RS Column 1.
UN applies to entire entry | See § 746.1 of the EAR for UN controls.
AT applies to “software” for commodities in ECCN 0A505.a, .d, or .x and equipment in ECCN 0B505.a, .d, or .x | AT Column 1.

List Based License Exceptions (See Part 740 for a Description of All License Exceptions)

TSR: N/A

Special Conditions for STA

License Exception STA may not be used for any “software” in ECCN 0D505, to any of the destinations listed in Country Group A:6 (See supplement no.1 to part 740 of the EAR).

List of Items Controlled

Related Controls: See USML Category III for “software” directly related to articles described in USML Category III.

Related Definitions: N/A

Items: The list of items controlled is contained in this ECCN heading.

* * * * *

0E501 “Technology” “required” for the “development,” “production,” operation, installation, maintenance, repair, or overhaul of commodities controlled by 0A501, 0A506, 0A507, 0A509, or 0B501 as follows (see List of Items Controlled).

License Requirements

Reason for Control: NS, RS, UN, AT

Control(s) | Country chart (see Supp. No. 1 to part 738)
NS applies to entire entry | NS Column 1.
RS applies to entire entry | RS Column 1.
UN applies to entire entry | See § 746.1 of the EAR for UN controls.
AT applies to entire entry | AT Column 1.

List Based License Exceptions (See Part 740 for a Description of All License Exceptions)

TSR: N/A

Special Conditions for STA

License Exception STA may not be used for any “technology” in ECCN 0E501, to any of the destinations listed in Country Group A:6 (See supplement no.1 to part 740 of the EAR).

List of Items Controlled

Related Controls: See USML Category I for technical data directly related to articles described in USML Category I.

Related Definitions: N/A

Items:

a. “Technology” “required” for the “development” or “production” of commodities controlled by ECCN 0A501 (other than 0A501.y), 0A506, 0A507, 0A509, or 0B501.

b. “Technology” “required” for the operation, installation, maintenance, repair, or overhaul of commodities controlled by ECCN 0A501 (other than 0A501.y), 0A506, 0A507, 0A509, or 0B501.

0E502 “Technology” “required” for the “development” or “production” of commodities controlled by 0A502, 0A508, or 0A509.a or .d.

License Requirements

Reason for Control: CC, UN

Control(s) | Country chart (see Supp. No. 1 to part 738)
CC applies to entire entry | CC Column 1.
UN applies to entire entry | See § 746.1 of the EAR for UN controls.

List Based License Exceptions (See Part 740 for a Description of All License Exceptions)

TSR: N/A

List of Items Controlled

Related Controls: See USML Category I for technical data directly related to articles described in USML Category I.

Related Definitions: N/A

Items: The list of items controlled is contained in the ECCN heading.

* * * * *

0E504 “Technology” “required” for the “development” or “production” of commodities controlled by 0A504 that incorporate a focal plane array or image intensifier tube.

License Requirements

Reason for Control: RS, UN, AT

Control(s) | Country chart (see Supp. No. 1 to part 738)
RS applies to entire entry | RS Column 1.
UN applies to entire entry | See § 746.1(b) of the EAR for UN controls.
AT applies to entire entry | AT Column 1.

List Based License Exceptions (See Part 740 for a Description of All License Exceptions)

TSR: N/A

Special Conditions for STA

License Exception STA may not be used for “technology” in ECCN 0E504, to any of the destinations listed in Country Group A:5 or A:6 (See supplement no.1 to part 740 of the EAR).

List of Items Controlled

Related Controls: N/A

Related Definitions: N/A

Items: The list of items controlled is contained in the ECCN heading.

0E505 “Technology” “required” for the “development,” “production,” operation, installation, maintenance, repair, overhaul, or refurbishing of commodities controlled by 0A505.

License Requirements

Reason for Control: NS, RS, UN, CC, AT

Control(s) | Country chart (see Supp. No. 1 to part 738)
NS applies to “technology” for “development,” “production,” operation, installation, maintenance, repair, overhaul, or refurbishing commodities in 0A505.a and .x; for “equipment” for those commodities in 0B505; and for “software” for that “equipment” and those commodities in 0D505 | NS Column 1.
RS applies to “technology” for “development,” “production,” operation, installation, maintenance, repair, overhaul, or refurbishing commodities in 0A505.a and .x; for “equipment” for those commodities in 0B505 and for “software” for those commodities and that equipment in 0D505 | RS Column 1.
UN applies to entire entry | See § 746.1 of the EAR for UN controls.
CC applies to “technology” for the “development” or “production” of commodities in 0A505.b | CC Column 1.
AT applies to “technology” for “development,” “production,” operation, installation, maintenance, repair, overhaul, or refurbishing commodities in 0A505.a, .d, and .x | AT Column 1.

List Based License Exceptions (See Part 740 for a Description of All License Exceptions)

TSR: N/A

Special Conditions for STA

License Exception STA may not be used for any “technology” in ECCN 0E505, to any of the destinations listed in Country Group A:6 (See supplement no.1 to part 740 of the EAR).

List of Items Controlled

Related Controls: See USML Category III for technical data directly related to articles described in USML Category III.

Related Definitions: N/A

Items: The list of items controlled is contained in this ECCN heading.

* * * * *

Julia A. Khersonsky,
Deputy Assistant Secretary for Strategic Trade.

[FR Doc. 2025-18992 Filed 9-29-25; 8:45 am]

BILLING CODE 3510-33-P